OFFICE OF PERSONNEL MANAGEMENT

5 CFR Part 532

[Docket ID: OPM-2024-0016]

RIN 3206-AO69

Prevailing Rate Systems; Change in Criteria for Defining Appropriated Fund Federal Wage System Wage Areas

AGENCY: Office of Personnel Management.

ACTION: Final rule.

SUMMARY: The Office of Personnel Management (OPM) is issuing a final rule to change the regulatory criteria used to define Federal Wage System (FWS) wage area boundaries and make changes in certain wage areas. The purpose of this change, which will affect around ten percent of the FWS workforce, is to make the FWS wage area criteria more similar to the General Schedule (GS) locality pay area criteria. This change is based on a December 2023 majority recommendation of the Federal Prevailing Rate Advisory Committee (FPRAC), the statutory national-level labor-management committee that advises OPM on the administration of the FWS.

DATES:

Effective date: This rule is effective October 1, 2025.

Applicability date: Changes to wage schedules resulting from the revised wage areas of application in appendix C to subpart B of 5 CFR part 532 apply on the first day of the first applicable pay period beginning on or after October 1, 2025. Changes to wage survey areas apply at various times beginning on or after October 1, 2025, based on the annual schedule of wage surveys, as listed in appendix A to subpart B of 5 CFR part 532, and with the timing of survey area expansions for affected wage areas as noted in the wage area listings in appendix C to subpart B of 5 CFR part 532.

FOR FURTHER INFORMATION CONTACT: Ana Paunoiu, by telephone at (202) 606-2858 or by email at paypolicy@opm.gov.

SUPPLEMENTARY INFORMATION:

Overview

There are two major job classification and pay systems in use by the Federal Government: the GS and the FWS. The GS covers around 1.5 million employees, and the FWS covers around 200,000 employees with around 170,000 in the appropriated fund system. On October 11, 2024, OPM issued a proposed rule (89 FR 82874) to change the regulatory criteria used to define FWS wage area boundaries for the appropriated fund system and make changes in certain wage areas. Specifically, OPM proposed to amend 5 CFR 532.211 to make the criteria OPM uses to define the geographic boundaries of FWS wage areas more similar to the GS locality pay area criteria and to define revised wage area boundaries in accordance with those revised criteria.

The 60-day comment period ended on December 10, 2024. OPM received 585 comments from Members of Congress, labor organizations, several hundred Federal employees, and one agency. Public comments, with one exception, strongly supported changing the regulatory criteria in 5 CFR 532.211. After consideration of public comments about the proposed rule, OPM is issuing a final rule that amends the regulatory criteria in 5 CFR 532.211, pursuant to its authority to issue regulations governing the FWS in 5 U.S.C. chapter 53, subchapter IV. In general, this final rule implements changes to certain wage areas, as identified in the proposed rule. This final rule also reflects a few corrections, which are described in detail after the discussion of comments, and it makes nonsubstantive changes to the authority citations for part 532 by amending the existing authority citations to comply with 1 CFR part 21, subpart B.

Background

During the period GS locality pay was being introduced in the early 1990s, FPRAC ¹ examined the differences in criteria between the GS and FWS, and by consensus, recommended that OPM not change the FWS criteria just for the sake of changing the criteria to make the systems look more similar. Locality pay for GS employees was a new and unproven concept at that time. Since then, however, the differences in geographic pay area boundaries for the GS and FWS have increasingly raised concerns among employees, their unions, local management officials, and consequently Members of Congress.

¹ The Federal Prevailing Rate Advisory Committee is composed of a Chair, five representatives from labor unions holding exclusive bargaining rights for Federal prevailing rate employees, and five representatives from Federal agencies. Entitlement to membership on the Committee is provided for in 5 U.S.C. 5347. The Committee's primary responsibility is to review the Prevailing Rate System and other matters pertinent to establishing prevailing rates under subchapter IV, chapter 53, 5 U.S.C., as amended, and from time to time advise the Director of OPM on the Governmentwide administration of the pay system for blue-collar Federal employees. Transcripts of FPRAC meetings can be found under the Federal Wage System section of OPM's website (https://www.opm.gov/policy-data-oversight/pay-leave/pay-systems/federal-wage-system/#url=FPRAC).

As stated in the proposed rule, since around 2006 the labor and employing agency representative members of FPRAC have discussed the possibility of making FWS wage areas more similar to GS locality pay areas, but there was not a consensus for change. The labor organization members expressed views that the difference in geographic treatment between the FWS and GS systems is inequitable. The management members expressed views that the differences best meet the intent of the relevant laws that established the two systems.

In House Report 117-79 ² accompanying the National Defense Authorization Act for Fiscal Year (FY) 2022, Congress encouraged OPM “to explore limiting the number of local wage areas defined within a GS Pay Locality to a single wage area.” Given the magnitude of the potential change in policy, FPRAC established a labor-management working group to study various issues concerning the FWS, including options on how to make the geographic wage area boundaries of FWS and GS pay areas more similar. At its 649th meeting, on December 21, 2023, based on working group discussions, FPRAC recommended by a 9 to 1 majority vote that OPM revise the regulatory criteria for defining wage areas so that wage area criteria approved by the Director of OPM will be more similar to GS locality pay area criteria approved by the President's Pay Agent.

² House Report 117-79 can be found at https://www.govinfo.gov/content/pkg/CRPT-117hrpt79/pdf/CRPT-117hrpt79.pdf.

OPM examined FPRAC's arguments and concluded that the amendments to 5 CFR 532.211 constitute an improvement to the FWS. OPM determined that the changes to the regulatory criteria used to define and maintain FWS wage areas will address the lack of equity that arises when FWS workers within a given GS locality pay area are paid from two, three, or more different wage schedules, while the GS employees who work alongside them are all paid from the same salary schedule. Implementation of the amendments to 5 CFR 532.211 will resolve equitably several of the thorniest issues on FPRAC's agenda related to specific geographic areas, such as the Tobyhanna Army Depot and other long-standing areas of interest, such as folding in the Narragansett Bay, Rhode Island, FWS wage area with the Boston wage area, redefining Monterey County, California, to the San Francisco, CA, wage area, and redefining Shawnee County, Kansas to the Kansas City, Missouri, wage area.

Comments Received on the Proposed Rule

Implementation Timeline

OPM invited comments on the implementation timeline and requested input regarding any alternative implementation plans. OPM received over 100 comments regarding the implementation timeline from employees, many of whom requested that the final rule be implemented “as soon as possible.” See, e.g., Comments 008, 174, and 492.³

³ A reference at the end of a comment summary provides the location of the item in the public record. (i.e., the three-digit number associated with the location in the docket). Comments filed in response to the proposed rule are available at OPM-2024-0016-0nnn, where “nnn” is the comment number. Note that the number must be three digits, so insert preceding zeroes as appropriate.

In addition, several commenters questioned the effective date of the proposed change recommending retroactive applicability. See, e.g., Comments 176, 187, 224, 227, and 414. OPM defines wage areas through regulations in 5 CFR part 532. Changes in OPM's FWS regulations are prospective, not retroactive. OPM lacks authority to implement this change on a retroactive basis.

As OPM discussed in the proposed rule, many of the operational aspects of this rule could be achieved relatively quickly following publication of the final rule; however, one potential approach that OPM highlighted was to delay the effective date of the final rule to address budgetary constraints. OPM noted that, although the overall budgetary impact of the rule is relatively small, the impact at the local level could be considerable, making it difficult for local units to manage sudden, unexpected increases in payroll. Given that this final rule is publishing in the middle of FY 2025 and while agencies are operating under a continuing resolution, OPM has concluded that imposing the unplanned-for payroll costs 30 days after publication, in the middle of the fiscal year, would place undue burdens and potentially unmanageable costs on multiple agencies. OPM recognizes that the delayed implementation date has real impacts on individual employees, but this rule will result in long-term structural changes that will increase equity between FWS and GS employees within defined geographic areas. OPM expects that, by delaying the effective date until the beginning of the next FY, agencies will be able to better plan for and manage increased payroll expenses, leading to a more effective implementation of this change. OPM recognizes that a longer lead time (e.g., FY 2027) would further ease the transition for agencies; however, OPM believes that organizational interests need to be balanced with the impact that further delays may have on employees. Accordingly, balancing the governmental interests and the interests of employees, this final rule will be effective on October 1, 2025, the first day of FY 2026. Changes in pay based on the updated wage area boundaries will be effective the first day of the first pay period following October 1, 2025.

Several commenters mentioned that the affected counties will be moved to the new wage areas after the new full-scale surveys. See, e.g., Comments 93, 236, 238, and 287. We note that only changes to the survey areas will be staggered across FYs 2026 to 2028 as reflected in the amended survey schedule in appendix A to subpart B of 5 CFR part 532 and appendix C to subpart B of part 532. These schedule changes will allow the Department of Defense (DOD) sufficient time to plan for conducting full-scale wage surveys in survey areas that will expand significantly, in some cases doubling, in geographic size. As described in the proposed rule, a survey area county that is removed from a current wage area that is being eliminated and defined to a different wage area that is being continued but revised in this rule would initially be added to the area of application of the gaining wage area rather than being defined directly to the survey area. The county would subsequently be incorporated into the relevant wage area's survey area based on the timing of full-scale local wage surveys. For example, Calhoun County, AL, is currently part of the Anniston-Gadsden, AL, survey area. Under this rule, Calhoun County will be moved to the Birmingham-Cullman-Talladega, AL, area of application, effective the first day of the first pay period following October 1, 2025, until January 2028. Calhoun County will subsequently be moved from the Birmingham-Cullman-Talladega, AL, area of application to the Birmingham-Cullman-Talladega, AL, survey area, effective for wage surveys beginning in January 2028, coinciding with the survey cycle for this wage area.

Under this final rule, there will be an initial implementation resulting in wage rate increases for most affected employees. Once surveys have been conducted in the expanded survey areas, wage schedules will be adjusted. However, OPM anticipates that the long-standing pay cap and floor increase provisions will control subsequent wage schedule adjustments. (See 89 FR 82875 for discussion of the pay cap and floor increase provisions.)

Impact on Local Businesses

OPM requested public comments from local businesses on the implementation and impacts of moving the small number of FWS employees who would be affected by the proposed rule to different wage schedules and the likelihood that the changes would affect those businesses. We only received one comment—from a Federal employee who also owns a plumbing business—stating that “the private sector pays so much more than the government would ever be willing to” and that he would not be able to hire anyone if his business paid rates as low as the FWS. Comment 343. As explained in the proposed rule and further detailed in this final rule, over the years, the FWS goal of setting pay in line with prevailing private sector rates has been diminished by appropriations legislation provisions that have capped FWS wage schedule adjustments regardless of local market conditions. On January 27, 2022, OPM approved DOD requests to establish special rates ⁴ to establish a minimum pay rate of $15 per hour for Appropriated Fund and Nonappropriated Fund FWS employees, in accordance with Compensation Policy Memorandum (CPM) 2022-02, “Achieving a $15 Per Hour Minimum Pay Rate for Federal Employees.” ⁵ This policy helped address the gap between FWS and private sector wage levels overall, but pay gaps are still substantial in different parts of the country as a result of the wage schedule adjustment cap.

⁴ The “Special rates” section later in this rule provides more information about the role of special rates.

⁵ The “Achieving a $15 Per Hour Minimum Pay Rate for Federal Employees” memorandum may be found at https://chcoc.gov/content/achieving-15-hour-minimum-pay-rate-federal-employees.

FWS vs GS

Locality Pay

OPM received numerous comments from employees supporting FWS employees receiving “locality pay.” As stated in the proposed rule, FWS and GS employees are paid under separate pay systems. The pay systems differ because they are governed by separate laws and regulations authorizing different types of surveys, occupational and geographic coverage, pay adjustment cycles, and pay ranges. The Federal Employees Pay Comparability Act of 1990 was enacted to provide locality pay to GS employees. FWS employees are specifically excluded from coverage under the locality pay system for GS employees because FWS employees have their own statutory local prevailing rate pay system. As such, GS locality pay percentages, which are add-ons to the base GS pay table, by law do not apply to the FWS. Instead, through annual appropriations legislation, employees in the FWS receive at least the same annual percentage pay adjustment as GS employees based on where they work.

Likewise, there were several comments from FWS employees reflecting a misunderstanding of the intent of this rule, with some comments suggesting that FWS employees will be moved to the GS pay scale. That is not what this rule does. We reiterate that the FWS and GS are different statutory pay systems, and this rule is focused to address the major issue identified for administrative resolution by FPRAC, which is to change the regulatory criteria for wage areas such that wage area definitions will, in almost all cases, follow the same labor market definitions and consider the same economically integrated regions as used for GS non-Rest of U.S. (RUS) locality pay areas. The FWS and GS will continue to be distinct and separate job classification and pay systems.

Cost of Living

Numerous employees argued that amending the regulatory criteria used to define and maintain FWS wage areas is necessary because of a high cost of living. See, e.g., Comments 17, 112, 329, 459. OPM notes that, by law, the cost of labor within a wage area, rather than the cost of living, determines FWS pay rates. Similarly, GS locality payments are not based on living costs but on salary surveys done by the Bureau of Labor Statistics, as required by law.

Annual Pay Adjustments Timing

Other commenters indicated that annual pay increases for FWS and GS employees do not coincide and that FWS employees receive their pay adjustments several months after GS employees. Both GS and FWS workers receive only one annual pay adjustment each year. FWS employees do not necessarily receive pay adjustments after GS employees; they are just on a different annual cycle than GS employees. Pay adjustments for the GS and FWS have separate effective dates. The annual adjustments for GS employees are made in January of each year (see 5 U.S.C. 5303(a)). Because FWS employees are paid according to local prevailing rates, FWS pay rates are adjusted each year based on prevailing private sector wage levels for similar work in a local wage area subject to pay cap and floor increase provisions. DOD obtains the rates paid by local private sector employers by conducting annual local wage surveys. The wage surveys are scheduled throughout the year and, consequently, the pay increases are effective based on when wage surveys are completed throughout the year (see 5 U.S.C. 5344(a)). For example, FWS employees in the Boston, MA, wage area receive pay adjustments that are effective in October each year, three months earlier in the FY than GS employees receive their pay adjustments. (Pay increases for FWS employees typically occur in October, whereas GS increases typically take effect in January.)

Grade and Steps Structure

A few commenters also expressed concerns regarding the FWS and GS grades and steps structure. For example, one commenter said that FWS and GS grades do not align and another asserted that, while FWS grades are divided into 5 steps, GS grades are divided into 10 steps. See, e.g., Comments 221 and 312. As already stated, differences between the FWS and GS pay systems include occupational coverage and pay ranges.⁶ The FWS pay system covers most trade, craft, and laboring employees (blue-collar workers) in the Executive Branch and has existed in various forms based on local prevailing wage levels since 1862. The FWS has a multi-level job-grading system that includes the full range of trade, craft, and laboring jobs. Occupations often cover more than one grade level, and many occupations are typically represented at each grade. Regardless of occupation, the pay range for all regular schedule jobs at a particular grade level in a specific wage area is the same.

⁶ OPM provides information regarding the classification process and job grading criteria for GS employees in Classifying General Schedule Positions available at https://www.opm.gov/policy-data-oversight/classification-qualifications/classifying-general-schedule-positions/#url=Standards; and for FWS employees in Classifying Federal Wage System Positions (available at https://www.opm.gov/policy-data-oversight/classification-qualifications/classifying-federal-wage-system-positions/#url=Standards) and Introduction to the Federal Wage System Job Grading System (available at https://www.opm.gov/policy-data-oversight/classification-qualifications/classifying-federal-wage-system-positions/fwsintro.pdf).

The FWS pay structure is primarily divided into wage grade nonsupervisory (WG), wage leader (WL), and wage supervisor (WS) hourly wage schedules. The WG and WL schedules have 15 levels or grades each, and the WS schedule has 19 grades. Generally, each grade represents progressively more difficult levels of work requiring higher levels of skills and/or experience. Employees are paid the full prevailing rate at step 2 of each grade level. Step 5, the highest step in the FWS, is 112 percent above the prevailing rate of pay. The FWS grade structure is established under 5 U.S.C. 5343(e)(1). The FWS regular wage schedule regulations can be found at 5 CFR 532.203.

The GS pay system covers most white-collar civilian Federal employees. The GS has 15 grades (GS-1 through GS-15). Again, each grade represents progressively more difficult levels of work requiring higher levels of knowledge and/or experience. Each grade has a range of salary divided into 10 steps. The GS grade structure is established under 5 U.S.C. 5332(a)(2).

Hazard Pay

One commenter noted that FWS employees “make less money for equivalent work” and “only get hazard pay for the hours (. . .) in a hazard zone.” Comment 48. Other commenters suggested that their work duties are more hazardous than those of GS employees. See, e.g., Comments 79, 295, 481. Hazardous duty pay (HDP) is paid to qualifying GS employees and Environmental Differential Pay (EDP) is paid to qualifying FWS employees. HDP and EDP have separate legal authorities. The legal authority for HDP is found in 5 U.S.C. 5545(d). The legal authority for EDP is found in 5 U.S.C. 5343(c)(4). The regulations for GS HDP are in 5 CFR 550.901. The regulations for FWS EDP are in 5 CFR 532.511.

Under 5 CFR 532.511, an FWS employee must be paid an environmental differential when exposed to a working condition or hazard that falls within one of the categories approved by OPM. Although OPM issues EDP regulations, each agency is responsible for evaluating local situations to determine if it should pay EDP. This responsibility was given to the agencies because each local agency and installation can best determine the nature of the work performed by its employees. In order to receive a differential, there must be actual exposure to the environmental condition. An environmental differential is paid either on the basis of actual exposure or on the basis of hours in pay status.⁷

⁷ Information on EDP may be found in Subchapter S8 Pay Administration in the Federal Wage System Appropriated Fund Operating Manual at https://www.opm.gov/policy-data-oversight/pay-leave/pay-systems/federal-wage-system/#url=Appropriated-Fund. The Schedule of Environmental Differentials Paid for Exposure to Various Degrees of Hazards, Physical Hardships, and Working Conditions of an Unusual Nature is listed under Appendix J of this manual (available at https://www.opm.gov/policy-data-oversight/pay-leave/pay-systems/federal-wage-system/appropriated-fund-operating-manual/appendixj.pdf). Appendix J lists all the FWS EDP categories either as actual exposure categories or as hours in a pay status categories.

GS Supervisory Differential

One commenter stated that special rates established for FWS employees in their area led to some GS employees making less than FWS employees they are supervising. Comment 330. GS supervisors may receive a supervisory differential when they have a higher paid subordinate that is not covered by the GS pay system. OPM encourages GS employees to discuss such matters with their employing agency's human resources office for any policy guidance their agency uses in similar situations. We note that there is no authority to pay a supervisory differential to an FWS employee supervising a higher paid subordinate who is under a different pay system.

Pay Increases for FWS Employees Impacted by This Rule

OPM received various comments from FWS employees reflecting a misunderstanding of the expected impact on wages for FWS employees as a result of implementing this rule, with some comments indicating a “12 percent across-the-board pay increase.” See, e.g., Comments 70, 83, 137, 257, and 499. As explained in the “Impact” section of the proposed rule, the pay increases will vary considerably, based on wage area and grades. For example, pay increases for FWS employees in Monroe County, PA, who will be moved to the New York, NY, wage area, will vary from around $0.49 per hour at grade WG-01 to $7.85 per hour at grade WG-15 based on current wage levels. In some wage areas employees will be placed on lower wage schedules and either be covered by pay retention rules or experience a reduction in pay if they are not eligible to retain a rate of pay.

Recruitment and Retention Issues

Many commenters indicated that the changes to the regulatory criteria in 5 CFR 532.211 are necessary because of recruitment and retention issues. For example, several commenters stated that placing FWS employees in the same geographic area as GS employees for pay setting purposes would help recruit and retain skilled candidates. See, e.g., Comments 50, 74, 120, and 284. While we acknowledge that pay increases may help address some recruitment and retention issues, the changes in criteria used to define and maintain FWS wage areas are not driven by recruitment or retention challenges, and FWS area definition criteria have never considered recruitment and retention criteria, just as GS locality pay area criteria contain no mention of recruitment or retention. This rule seeks to make the labor market determinations and pay area boundaries more similar, as recommended through National Defense Authorization Act (NDAA) language, by using similar criteria in both pay systems, and to therefore advance greater equity between the two systems.

Comments Regarding Specific Wage Areas

Southern Missouri FWS Wage Area

OPM received a few comments from FWS employees requesting that several counties in the Southern Missouri wage area be redefined to the St. Louis, MO, wage area (see, e.g., Comments 259 and 296) and one comment requesting that Butler County, MO, be redefined to either the St. Louis wage area or Memphis, TN, wage area (Comment 264). Some commenters expressed concerns that FWS rates of pay in Southern Missouri are lower than those received by employees who work in the St. Louis wage area, by GS employees, or by people who work in comparable jobs in the private sector. See, e.g., Comments 57, 203, 253, 263, 264, 265, 296, and 395.

Neither the current regulatory criteria nor the new criteria support the suggested changes to the Southern Missouri wage area. As stated in the proposed rule, OPM must receive the advice of FPRAC before reviewing and making any changes to wage area boundaries. Any management or labor member of FPRAC may introduce a subject for discussion by the Committee. For example, for FPRAC to consider a proposal to change the definition of a county, a member of the Committee must introduce the matter for discussion. It is the Chair's responsibility to approve items to be discussed on the Committee's agenda. FWS employees may wish to consider going through the chain of command within their employing agency or through their labor union representative to bring issues to FPRAC's attention.

We note that local wage surveys in the Southern Missouri wage area continue to meet all requirements for determining prevailing wage rates in the local labor market. The wage schedule for the Southern Missouri wage area is based on data collected from Christian, Greene, Laclede, Phelps, Pulaski, and Webster Counties, MO. The difference in rates of pay between the Southern Missouri wage area and other wage areas, including St. Louis, MO, and Memphis, TN, reflects the fact that the prevailing cost of labor varies by wage area. It is not unusual for FWS employees who work in different wage areas to receive substantially different rates of pay even though they may have similar grade levels and job duties. For example, the wage rate for a WG-10, step 2, employee in the Southern Missouri wage area is $27.45, while it is $34.12 in the St. Louis wage area. These rates reflect the prevailing wage levels for this level of work in each wage survey area subject to annual pay cap and floor increase appropriations law provisions.

Puerto Rico Wage Area

OPM also received two comments inquiring if these changes will apply to the Puerto Rico wage area and asserting that pay rates in this wage area are lower than in other wage areas. See Comments 246 and 312. As stated in the proposed rule, changes to the criteria used to define and maintain wage areas will not result in any changes to the Puerto Rico wage area boundaries or pay. Likewise, as explained in response to the comments regarding the Missouri wage areas, FWS employees are paid different wage rates based on their location since the cost of labor varies from wage area to wage area. The pay system is neither designed nor intended to ensure all FWS employees receive the same wage rates in all regions.

Boston-Worcester-Providence, MA, Wage Area

OPM received several comments requesting that Hancock County, ME, and Acadia National Park be redefined to the new Boston-Worcester-Providence, MA, wage area. See, e.g., Comments 348, 385, and 393. Hancock County and Acadia National Park are defined to the Central and Northern Maine wage area. Neither the current nor the new regulatory criteria support the redefinition of Hancock County and Acadia National Park to the Boston-Worcester-Providence wage area. We also note that Hancock County is not neighboring the Boston wage area with the Central and Northern Maine and the Boston-Worcester-Providence wage areas being separated by the Augusta, ME, wage area.

OPM received several comments requesting that Aroostook County, ME, be removed from the Central and Northern Maine survey area because it only has 15 FWS employees and does not meet the minimum 100 FWS employees working in the county requirement and that Hancock County be added to this survey area instead. See, e.g., Comments 389, 393, and 529. As previously mentioned, OPM proposes changes to wage areas, including changes to existing survey areas, based on the advice of FPRAC. FWS employees may wish to consider going through the chain of command within their employing agency or through their labor union representative to bring issues to FPRAC's attention.

OPM received a comment from an employee requesting the Kennebec County, ME, be redefined from the Augusta, ME, wage area to the new Boston-Worcester-Providence wage area. See Comment 388. Neither the current regulatory criteria nor the new criteria support this suggested change.

Mono and Inyo Counties, CA

OPM received a few comments from local government officials in Mono and Inyo Counties, CA, requesting that these two counties be redefined in their entirety to the Los Angeles, CA, wage area. See, e.g., Comment 293. Currently, Mono County, with the exception of locations where the Bridgeport, CA, special schedule applies, is defined to the Reno, NV, wage area, and Inyo County, with the exception of the China Lake Naval Weapons Center portion, is defined to the Las Vegas, NV, wage area. Neither the current nor the new regulatory criteria support redefining these two counties in their entirety to the Los Angeles, CA, wage area. As mentioned previously, OPM proposes any changes to wage area definitions after FPRAC review and recommendation.

Yuma County, AZ

One agency recommended that Yuma County, AZ, be redefined from the San Diego County, CA, wage area to the Phoenix, AZ, wage area because the Federal Salary Council recommended the inclusion of Yuma County into the Phoenix-Mesa-Scottsdale, AZ GS locality Pay Area, still pending approval from the President's Pay Agent. Changes in GS locality pay area definitions will not result in automatic changes in FWS wage area definitions. Neither the current nor the new regulatory criteria support redefining Yuma County to the Phoenix, AZ, wage area. As already mentioned, OPM proposes any changes to wage area definitions after FPRAC review and recommendation.

San Diego, CA, Survey Area

OPM received a comment from an FWS employee in the San Diego, CA, wage area opposing the redefinition of Yuma County, AZ, from the San Diego area of application to the San Diego survey area. The commenter argued that the cost of living is lower in Yuma County than in San Diego County and adding survey data from Yuma County to the San Diego wage area would lead to overall lower pay in the wage area. Comment 394. As stated in the proposed rule, OPM is moving Yuma County to the San Diego survey area beginning in September 2027 because more than 100 FWS employees work in this county. This move is necessary to comply with the requirement that OPM include in survey areas all counties with 100 or more FWS employees. A future wage survey will determine the impact, if any, on wage levels that apply in the San Diego wage area and that would likely continue to be subject to annual appropriations legislation setting a cap and floor on wage schedule adjustments.

Southern Colorado Wage Area

OPM received three comments from FWS employees in the City of Colorado Springs, CO, expressing concerns that FWS rates of pay in the City of Colorado Springs are lower than those earned by people who work in comparable jobs in the private sector and in the Consolidated City and County of Denver. See, Comments 444, 454, and 455. The City of Colorado Springs, in El Paso County, CO, is defined to the Southern Colorado wage area, and the Consolidated City and County of Denver is defined to the Denver, CO, wage area. Local wage surveys in the Southern Colorado wage area continue to meet all requirements for determining prevailing wage rates in the local labor market. The wage schedule for the Southern Colorado wage area is based on data collected from El Paso, Pueblo, and Teller Counties, CO. The difference in rates of pay between the Southern Colorado and Denver wage areas, as previously mentioned regarding other wage areas, reflects the fact that the prevailing cost of labor varies by wage area.

Neither the current regulatory criteria nor the new criteria support a redefinition of the Southern Colorado wage area.

Gettysburg National Military Park

OPM received a comment from a labor organization local representative at the Gettysburg National Military Park requesting that this installation be defined to the new Washington-Baltimore-Arlington wage area, and pointing out that the cost of living is the same for both GS and FWS employees and that FWS employees are “earning less than employees at the local Sheetz and warehouses.” Comment 365.

The Gettysburg National Military Park is located in Adams County, PA, which is defined to the Harrisburg, PA, wage area, and part of the Harrisburg-York-Lebanon, PA, combined statistical area (CSA). The purpose of this rule is not to make the FWS system identical to the GS locality pay system but to no longer allow, in almost all cases, non-RUS locality pay areas to be split by FWS wage areas. Please see why Adams County will continue to be defined to the Harrisburg wage area in the “Statement of Need” subsection below.

Assateague Island

Two commenters stated that “[t]he Assateague Island FWS exception needs to be eliminated,” and argued that moving Worcester County, MD, to the Philadelphia-Reading-Camden, PA, wage area would lead to FWS employees at Assateague Island National Seashore being paid a lot less than counterparts working in the rest of Worcester County. Comments 333 and 546. OPM has been defining Worcester County (excluding the Assateague Island part) to the Wilmington, DE, wage area and the Assateague Island part of Worcester County to the current Norfolk-Portsmouth-Newport News-Hampton, VA, wage area. According to OPM data, there are 10 FWS employees working for the Department of the Interior, with a duty station in the Town of Chincoteague, Accomack County, VA. Since the duty station is located within the current Norfolk-Portsmouth-Newport News-Hampton wage area, this rule will continue to define the Assateague Island part of Worcester County to the new Virginia Beach-Chesapeake, VA, wage area. As already explained, OPM proposes any changes to wage area definitions, other than the ones automatically resulting from the application of revised regulatory criteria defining wage areas, after FPRAC review and recommendation.

Ft. Wayne-Marion, IN, Wage Area

OPM received one comment from a labor organization local representative requesting that the J.E. Roush Lake Project part of Huntington County and Wabash County, IN, be redefined from the Ft. Wayne-Marion, IN, wage area to the new Indianapolis-Carmel-Muncie, IN wage area. Comment 491. Neither the current regulatory criteria nor the new criteria support the suggested changes to the Ft. Wayne-Marion, IN, wage area. FPRAC may consider a proposal to review the definition of Huntington and Wabash Counties if a committee member introduces this issue for discussion.

Timing of the Local Wage Surveys

OPM received one comment from an FWS employee in the Central and Northern Maine wage area requesting that the local wage survey order month in this wage area be changed from May to August. Comment 393. Under 5 CFR 532.207, FWS wage surveys are scheduled to begin in specific months each year based on the following criteria: timing of wage surveys in relation to wage adjustments in principal local private sector establishments; reasonable distribution of survey workloads for the lead agencies; timing of wage surveys in nearby wage areas; and scheduling relationships with other pay surveys. FPRAC may consider a proposal to change a survey order month if a committee member introduces a proposal for discussion.

Conduct of Local Wage Surveys

One labor organization stated that the way local wage surveys are conducted needs reforming because they “fail to accurately reflect the true conditions of the labor markets.” Comment 543. Several other commenters also expressed concern about the results of the local wage surveys, saying that they fail to capture private sector wages. See, e.g., Comment 259. One agency stated that, in certain survey areas, such as Narragansett Bay area, there are challenges in identifying private establishments with jobs comparable with the survey jobs willing to participate in surveys. As previously stated, the intent of this rule is to make the regulatory criteria OPM uses to define FWS wage areas more similar to GS locality pay areas and make changes to certain wage areas based on the revised criteria in 5 CFR 532.211. Any reforms to the local wage surveys collection process need to be reviewed by FPRAC.

Special Rates

One commenter requested that OPM consider special rates for Acadia National Park, Bar Harbor, and Mount Desert Island, in the Central and Northern Maine wage area. Comment 408. Another commenter requested extending special rates currently established in the Jacksonville, FL, wage area to FWS positions in Polk County, FL, which is being redefined to this wage area through this rule. Comment 346. Under 5 CFR 532.251, a lead agency with the approval of OPM may establish special rates for pay within all or part of a wage area for a designated occupation or occupational specialization and grade, in lieu of rates on the regular schedule. OPM may authorize special rates to the extent it considers necessary to overcome existing or likely significant handicaps in the recruitment or retention of well qualified personnel when these handicaps are due to any of the following circumstances: rates of pay offered by private sector employers for an occupation or occupational specialization and grade are significantly higher than rates paid by the Federal Government within the competitive labor market; the remoteness of the area or location involved; or any other circumstance that OPM considers appropriate. If an employing agency should find it necessary to establish special rates for FWS employees in the Central and Northern Maine or Jacksonville, FL, wage areas, it must submit data to DOD demonstrating staffing problems and certify the availability of sufficient funds to support a special rates request for specific occupations, grades, installations, and/or locations. If DOD concurs that special rates are necessary for those occupations, grades, installations, and/or locations, the request will be forwarded to OPM for review.

One agency asked how the changes in wage areas resulting from amending the regulatory criteria in 5 CFR 532.211 would affect existing special rates. OPM sees no basis for canceling existing special rates. Special rates sometimes apply wage area wide and sometimes apply to a specific Federal installation or set of occupations within a wage area. If an employee who is paid a special rate would be entitled to a higher wage rate from a regular wage schedule upon movement to a different wage schedule, the employee would be entitled to the higher wage rate on the regular wage schedule. OPM will continue to work closely with the lead agency to manage appropriate special wage rates to address recruitment or retention challenges.

Elimination of the “Pay Cap” Provision

One labor organization wrote in support of the elimination of the yearly “pay cap” provision from the appropriations legislation. Comment 543. As stated in the proposed rule, each year since fiscal year 1979, appropriations legislation has limited FWS pay adjustments so as not to exceed average GS pay adjustments. For FY 2024, the FWS pay limitation of 5.26 percent was in section 737 of division B of the Further Consolidated Appropriations Act, 2024. Congress originally imposed limits on FWS pay adjustments during the high inflation era of the late 1970's for budget purposes and to ensure that FWS pay rates did not increase more rapidly than GS pay rates. In certain high cost of labor areas, GS employees were leaving white-collar positions to take higher paying blue-collar positions. Federal employee organizations have strongly opposed FWS pay limitations since they were first imposed, but agencies were concerned about the budget impact of lifting the cap system-wide in any one fiscal year. At the October 20, 2022, FPRAC public meeting,⁸ the Committee recommended by consensus that OPM should seek elimination of an annual provision placed in the Financial Services and General Government Appropriations Act that establishes a statutory limitation each year on the maximum allowable FWS wage schedule adjustment. OPM is considering available policy options and solutions to advance this policy change forward.

⁸ A copy of the October 20th, 2022 FPRAC meeting transcript may be found at https://www.opm.gov/policy-data-oversight/pay-leave/pay-systems/federal-wage-system/federal-prevailing-rate-advisory-committee/meeting-number-642-october-20-2022.pdf.

GS Locality Pay Areas

OPM received several comments requesting that Lucas County, OH, be included in the Detroit-Warren-Ann Arbor, MI, GS locality pay area. Comments 362, 363, and 356. Two other commenters requested that several counties in Western Colorado be added to the Denver-Aurora, CO, GS locality pay area. Comments 151 and 205. The purpose of this rule is to change the regulatory criteria used to define and maintain FWS wage areas and to redefine certain FWS wage areas established for the FWS pay system under 5 U.S.C. 5343. This rulemaking does not address boundaries of locality pay areas for the GS pay system and other pay systems that receive locality pay under 5 U.S.C. 5304.

One commenter wrote against the implementation of OPM's proposal, stating that adding outlying counties to the core GS locality pay area would lead to lower rates of pay for employees working within the Metropolitan Statistical Area and arguing that the FWS wage areas and GS locality pay areas should not be aligned until the GS system is reformed. Comment 417. This commenter also noted that FWS wage areas would not fully coincide with GS locality pay areas. As explained previously, the purpose of this rule is to make changes to the criteria used to define and maintain FWS wage areas and to redefine boundaries of FWS wage areas, according to the amended regulatory criteria. This rule is not meant to make changes to the GS system or consider ideas for reforming the GS system. Lastly, as stated in the proposed rule and reiterated in this final rule, the new wage area definitions are not intended to mirror GS locality pay areas, and some differences between the geographical boundaries of wage areas and locality pay areas will continue to exist.

Corrections

The proposed rule contained an error where Union County, PA, was listed in both the proposed Harrisburg-York-Lebanon (89 FR 82892 and 82916) and Scranton-Wilkes-Barre wage areas (89 FR 82893 and 82917). This error occurred because, while drafting the proposed rule, Union County was identified as one of the four counties of the Bloomsburg-Berwick CSA, which is within the Harrisburg, PA, wage area. Under the new wage area criteria, a CSA should not be split between two wage areas except in unusual circumstances. In this instance, OPM intended to make an exception to the metropolitan area criterion based on a comprehensive analysis of all of the wage area definition criteria.

The Federal Correctional Complex Allenwood in Union County has been defined to the Harrisburg wage area since it opened in the early 1990s, and OPM finds no compelling reason based on the mixed nature of a comprehensive analysis of the regulatory criteria to move Union County to a different wage area. From an organizational relationship perspective, there are other Bureau of Prisons institutions immediately to the south of Allenwood in Lewisburg, PA, that will be defined to the Harrisburg-York-Lebanon wage area. As correctly noted in the proposed rule, OPM's intent was to first define Union County, PA, to the Harrisburg-York-Lebanon area of application and then, effective for wage surveys beginning in May 2026, Union County would become part of the survey area for the Harrisburg-York-Lebanon wage area because there are more than 100 FWS employees with official duty stations in the county. This decision required that the Bloomsburg-Berwick CSA remain split between the Harrisburg-York-Lebanon and Scranton-Wilkes-Barre wage areas as an exception to the metropolitan area criteria. The Bloomsburg-Berwick CSA is comprised of four Micropolitan Statistical Areas with some of its counties geographically closer to Harrisburg and some closer to Scranton and Wilkes-Barre. The employment interchange criterion indicates that there are only marginal differences in commuting rates to and from the Bloomsburg-Berwick CSA as a whole and the Harrisburg-York-Lebanon and Scranton-Wilkes-Barre survey areas.

After recognizing that Union County was erroneously listed in two wage areas in the proposed rule, OPM is correcting the disposition of the following counties for the final rule. Columbia, Montour, and Northumberland Counties, PA, will be defined to the area of application of the Scranton-Wilkes-Barre wage area as noted in the proposed rule. Union County and Snyder County, on the west side of the Susquehanna River, will be defined to the Harrisburg-York-Lebanon wage area. Snyder County is located to the south of Union County and both counties are closest to Harrisburg.

Wayne County, PA, was erroneously listed as being part of the Scranton-Wilkes-Barre, PA, wage area in the “Definitions of Wage Areas and Wage Area Survey Areas” section (see 89 FR 82917). As correctly stated elsewhere in the proposed rule, Wayne County is moving to the New York-Newark, NY, wage area. (See 89 FR 82890, 82893, and 82914.)

The area of application designation for Palm Beach County, FL, was erroneously listed as January 2027 (see 89 FR 82883 and 82905); however, the proposal correctly identified May 2027 as the effective date for the survey area (see 89 FR 82905). This error occurred because currently the wage survey order month for the Miami-Dade, FL, wage area is January. However, DOD had requested certain changes in wage survey order months to allow balancing of the wage survey workload throughout the year, including revising the listing of the beginning month of survey from “January” to “May” for the Miami-Dade wage area (see 89 FR 82878). As such, OPM is correcting the area of application designation for Palm Beach County to read “May.”

Expected Impact of This Final Rule

1. Statement of Need

OPM is issuing this rule pursuant to its authority in 5 U.S.C. 5343 to issue regulations governing the FWS. The purpose of these changes is to address longstanding inequities between the Federal Government's two main pay systems. While the pay systems are different in some ways, the concept of geographic pay differentials based on local labor market conditions is a key feature of both systems. The FWS regulatory criteria in 5 CFR 532.211 are being revised to better align FWS wage areas with non-RUS GS locality pay areas. The revised FWS criteria include CSA and micropolitan statistical area (MSA) definitions and employment interchange data reported by the Census Bureau that reflects social and economic integration in a region. Revised FWS wage area definitions are based on an analysis of these factors by FPRAC's working group and OPM's analysis of the criteria to be consistent with the FPRAC majority recommendation to use the new criteria. There is no intent that FWS wage areas will be identical to GS locality pay areas in all cases. In limited circumstances, such as with Adams and York Counties, PA, this rule will not result in all non-RUS locality pay areas no longer including more than one FWS wage area. The Harrisburg, PA, wage area, will continue to coincide with the Washington-Baltimore-Arlington, DC-MD-VA-WV-PA and the Harrisburg-Lebanon, PA GS locality pay areas. Adams and York Counties, PA, are currently part of the Washington-Baltimore-Arlington GS locality pay area, based on a Federal Salary Council recommendation and Pay Agent decision to keep these counties defined to that locality pay area after a new GS locality pay area was later established for Harrisburg. Adams and York Counties will continue to be defined to the Harrisburg, PA, wage area because they are part of the Harrisburg-York-Lebanon, PA, CSA and to avoid splitting this CSA as will be required by the new regulatory criteria.

2. Impact

Per available data, OPM expects these changes will impact approximately 17,000 FWS employees nationwide or about 10 percent of the appropriated fund FWS workforce. The amendments to current regulatory criteria used to define and maintain FWS wage areas will result in numerous changes in the composition of many of these wage areas. As a result, several FWS wage areas will no longer be viable separately, and the counties in those abolished wage areas will be defined to another wage area.

Most employees affected by this approach will receive increases in pay, but some will be placed on pay retention if moved to a lower wage schedule or experience a reduction in pay if not eligible for pay retention. As such, about 85 percent of the affected employees (roughly 14,500 employees) will receive pay increases, about 11 percent (roughly 1,800 employees) will be placed on pay retention, around 3 percent (about 500 employees) will be placed at a lower wage level, and around 1 (less than 200 employees) percent will see no change in their wage level because their current wage rate is identical to the wage rate on a wage schedule they will be moved to.

This rule primarily affects FWS employees of DOD and its components, although employees of many other agencies, including the Department of Veterans Affairs (VA), are impacted. For example, the Anniston-Gadsden, AL, wage area will be abolished and most of its counties will be added to the Birmingham-Cullman-Talladega, AL, wage area. FWS employees working in these counties will see their pay increased at most grades. For example, based on current wage levels, at grades WG-01 through WG-04 there will be no change in pay while, at grades WG-05 through WG-15, pay increases could vary from $0.72 per hour to $5.99 per hour. Likewise, based on these proposed changes, Monroe County, PA, will be moved to the New York, NY, wage area. As such, based on current pay levels, pay increases for FWS employees in Monroe County will vary from about $0.49 per hour at grade WG-01 to $7.85 per hour at grade WG-15. However, the Washington, DC, Baltimore, MD, and parts of the Hagerstown-Martinsburg-Chambersburg, MD, wage areas will be combined into a revised Washington, DC, based wage area. FWS employees will be moved to the existing Washington, DC, wage schedule, which will result in placement on a wage schedule with lower rates, based on current pay levels, than in the current Baltimore and Hagerstown wage areas at lower grade levels. This will primarily affect employees at lower grade levels at VA Medical Centers in these wage areas. For example, WG-2, step 2, for the Washington, DC, wage schedule is currently $18.47 per hour whereas it is $24.51 per hour for Baltimore, which will result in around a $6 an hour decrease, based on current wage levels, once this final rule goes into effect. Nonetheless, most employees will retain their current wage rates if they are not under temporary or term appointments. There are around 35 FWS employees at the Baltimore VA Medical Center under temporary appointments who will see an actual reduction in pay if their appointments are not changed to be permanent and assuming their temporary employment status will continue in future. At higher wage grades, employees in the Baltimore and Hagerstown wage areas will receive higher rates under a Washington, DC, based wage schedule based on current pay levels.

This final rule affects about 10 percent of FWS appropriated fund workers, and there will be 118 separate appropriated fund wage areas versus 130 today. The changes are limited in scope with most FWS employees seeing no impact at all on their wage levels.

This rule has potential budgetary impacts affecting three major Army Depots, in particular, that will need to be managed appropriately and effectively by employing agencies. It is noteworthy, however, that the overall budget impact of revising wage area boundaries under this final rule equates to about $140 million per year—only around 1 percent of the current base payroll for the FWS appropriated fund workforce as a whole.

As mentioned previously, 14 percent of the affected employees will be placed on retained pay status; however, a vast majority of the affected employees—about 85 percent—will receive a pay increase. OPM concludes that the benefits of this final rule outweigh the negative impacts since this rule will better equalize geographic pay area treatment across the Federal Government's two main pay systems. The pay retention law exists to alleviate potential decreases in wage rates caused by management actions such as changes in wage area boundaries. We also note that Federal agencies have considerable discretionary authority to provide pay and leave flexibilities to address significant recruitment and retention problems. Pay and leave flexibilities are always an option to address recruitment or retention challenges at any time. Agency headquarters staff may contact OPM for assistance with understanding and implementing pay and leave flexibilities when appropriate. Information on those flexibilities is available on the OPM website at https://www.opm.gov/policy-data-oversight/pay-leave/pay-and-leave-flexibilities-for-recruitment-and-retention.

Considering that a fairly small number of employees is affected, OPM does not anticipate this rule will have a substantial impact on the local economies or a large impact in the local labor markets. As these and future wage area changes may impact higher volumes of employees in geographical areas and could rise to the level of impacting local labor markets, OPM will continue to monitor the revised wage areas for such impacts.

As described below, OPM estimates the rule results in annualized transfers in the form of additional payroll of approximately $149.9 million and annualized costs of approximately $0.9 million over ten years at a 2 percent discount rate.

3. Baseline

The geographic boundaries of FWS wage areas and of GS locality pay areas are not the same. Around 1.5 million GS employees are in 58 locality pay areas and around 170,000 appropriated fund FWS employees are in 130 wage areas. However, since 2004, appropriations legislation has required that FWS employees receive the same percentage adjustment amount that GS employees receive where they work.⁹ This provision is known as the floor increase provision. Consequently, the floor increase provision requires pay adjustments each FY that result in certain FWS wage areas having more than one wage schedule in effect where there are multiple wage areas within the boundaries of a single non-RUS GS locality pay area. Although a majority of FWS wage areas coincide only with part of the RUS GS locality pay area, many FWS wage areas coincide with parts of more than one GS locality pay area. In each situation where the boundary of a prevailing rate wage area coincides with the boundary of a single GS locality pay area boundary, DOD must establish one wage schedule applicable in the wage area. For example, the New Orleans, LA, FWS wage area coincides with part of the RUS GS locality pay area. In this case, the minimum prevailing rate adjustment for the New Orleans wage area in FY 2024 was the same as the RUS GS locality pay area adjustment, 4.99 percent.

⁹ For FY 2024, the floor increase and pay cap provisions may be found in section 737 of Division B of the Further Consolidated Appropriations Act, 2024 (the FY 2024 Act), Public Law 118-47.

In each situation where a prevailing rate wage area coincides with part of more than one GS locality pay area, DOD must establish more than one prevailing rate wage schedule for that wage area, and therefore, FWS employees within the same wage area may receive substantially different rates of pay. For example, the boundaries of the Philadelphia, PA, FWS wage area coincide with parts of two different GS locality pay areas—New York-Newark, NY-NJ-CT-PA and Philadelphia-Reading-Camden, PA-NJ-DE-MD. In this case, DOD established two separate wage schedules for use during FY 2024 in the Philadelphia FWS wage area. In the part of the Philadelphia wage area that coincides with the New York-Newark, NY-NJ-CT GS locality pay area, the minimum prevailing rate adjustment was 5.53 percent and in the part coinciding with the Philadelphia-Reading-Camden, PA-NJ-DE-MD GS locality pay area, the minimum prevailing rate adjustment was 5.28 percent. OPM's guidance to agencies regarding FY 2024 FWS pay adjustments can be found at https://www.chcoc.gov/content/fiscal-year-2024-prevailing-rate-pay-adjustments.

Furthermore, at Tobyhanna Army Depot, the largest employer in Monroe County, PA, more than 1,000 Federal employees paid under the GS work in close proximity to more than 1,500 Federal employees paid under the FWS. Prior to 2005, Monroe County was part of the RUS GS locality pay area, while the county was (and is) part of the Scranton-Wilkes-Barre FWS wage area. In January 2005, Monroe County was reassigned from RUS to the New York GS locality pay area. As a result, all GS employees at Tobyhanna got an immediate 12 percent pay increase, of which 8 percent was attributable to the reassignment of Monroe County to the New York locality pay area. This led to a deep sense of unfairness on the part of FWS employees at Tobyhanna which continues to this day.

This final rule addresses most of the differences in pay among FWS employees within the same wage area and between FWS employees and GS employees working at the same location. It revises the wage area criteria for FWS to achieve better alignment between FWS wage areas and GS locality pay areas and addresses observable geographic pay disparities between FWS and GS employees that have been caused by using different sets of rules to define FWS wage areas and GS locality pay areas.

4. Costs

OPM employs four full-time staff, at grades GS-12 through GS-15, to discharge its responsibilities under the FWS. The annual cost is estimated at $753,215 based on an average salary of $188,304 and includes wages, benefits, and overhead. This estimate is based on the 2024 GS salary pay rate for the Washington-Baltimore-Arlington, DC-MD-VA-WV-PA locality pay area. We do not anticipate an increase in administrative costs for OPM under this final rule.

During FPRAC discussions on methods to address the House Report language, it became apparent that DOD might need to hire additional staff members to conduct surveys in the expanded wage areas. However, there will also be fewer wage surveys to conduct each year because 12 wage areas will be abolished, and their survey counties moved to neighboring wage areas. Currently, DOD's operating costs for conducting FWS wage surveys and issuing wage schedules are estimated at $12 million, but it is reasonable to expect that additional specialist wage survey staff members may be needed to complete local wage survey work in the wage areas that will become larger in the time allotted ¹⁰ by statute for local wage surveys to be completed. OPM estimates that an average wage specialist at around the GS-9 level with a $70,000 a year salary in the Washington, DC, area could have a fully burdened cost of $140,000 to carry out the additional wage survey work. Allowing for six new DOD employees would increase government costs by around $840,000 for the first year. OPM requested comments regarding the costs of wage survey administration. One labor organization proposed a change in legislation so that wage schedules are calculated using data collected by the Bureau of Labor Statistics instead. Comment 478. As previously stated, this rulemaking amends the regulatory criteria used to define and maintain wage areas and redefine certain wage areas accordingly and cannot make regulatory changes that would require changes in existing law.

¹⁰ Local wage surveys are scheduled in advance, with surveys scheduled by regulation to begin in a certain month in each wage area. The beginning month of appropriated fund wage surveys and the fiscal year during which full-scale surveys are conducted are set out as appendix A to subpart B of part 532. Under 5 U.S.C. 5344(a), any increase in rates of basic pay is effective not later than the first day of the first pay period on or after the 45th day, excluding Saturdays and Sundays, after a survey was ordered to begin in a wage area. For example, the January wage schedule is ordered in January and becomes effective in March of each year.

FWS wage surveys are conducted under the information collection titled “Establishment Information Form,” “Wage Data Collection Form,” and “Wage Data Collection Continuation Form” OMB Control number 3260-0036. DOD wage specialist data collectors survey about 21,760 businesses annually. Based on past experience with local wage surveys, DOD estimates that each survey collection requires 1.5 hours of respondent burden for collection forms, resulting in a total yearly burden of 32,640 hours. (See the Paperwork Reduction Act section below.) The changes in wage area boundaries in this rule are not expected to affect the public reporting burden of the current information collection. This is because the number of counties included in future survey areas will remain very similar to those included in current survey areas. OPM invited public comment on this matter, but no comments were submitted.

This final rule will affect the FWS employees of up to 30 Federal agencies—ranging from cabinet-level departments to small independent agencies—affecting around 17,000 FWS employees. The estimated payroll cost of this final rule, including 36.70 percent fringe benefits,¹¹ is approximately $150 million when annualized at a 2 percent rate, and its cumulative undiscounted 10-year cost is around $1.5 billion for geographic areas being moved from one wage area to another as a result of amending the criteria used to define FWS wage area boundaries. The total first year base payroll cost represents around 1 percent of the $10 billion overall annual base FWS payroll. About half the overall cost will be incurred by the Department of the Army, primarily at Tobyhanna, Letterkenny, and Anniston Army Depots because a substantial number of the FWS employees who will be affected by the proposed changes is concentrated at these large federal installations.

¹¹ DOD provides annual costs for civilian personnel fringe benefits at https://comptroller.defense.gov/Portals/45/documents/rates/fy2024/2024_d.pdf.

Attachment 1 ¹² provides OPM's estimate of the payroll costs for the first 10 years of implementation of this rule. This document was developed by OPM staff who provide technical support to FPRAC. The cost estimate lists the wage areas that will have counties added as a result of the final rule and identifies the counties being added.

¹² Attachment 1 may be found in the docket OPM-2024-0016 on www.regulations.gov.

To calculate the estimated first year cost of around $140 million, we used Wage Grade, Wage Leader, and Wage Supervisor employment numbers in each impacted county and compared the difference in pay between the grade's step-2 rate under the county's current wage schedule, the prevailing wage grade level, and the wage schedule the county will be defined under by this final rule. The overall costs were further adjusted based on the average step rate for FWS employees being above step 2.¹³ The ten cells to the right of each county provide the costs for the first ten years of implementation. In the “Totals” worksheet, the “Totals” column provides the estimated total cost for the increased payroll for the first 10 years after implementation. The “Emps” column provides the sum of Wage Grade, Wage Leader, and Wage Supervisor employees in the county. The bottom row of each wage area section of Attachment 1 provides the total payroll costs associated with this rule for all counties being moved to the wage area listed. Estimated costs for the second through tenth years were calculated using a 2 percent adjustment factor, in line with the President's budget plan for FY 2025 and an estimated 36.7 percent fringe benefit factor. As these are only estimates, actual future costs will vary.

¹³ The step 2 rate is the prevailing wage level, or 100 percent of market, that DOD bases all the other step rates on. The average step for employees changes over time and is different from area to area and grade to grade within a wage area. Currently, the average rate is just above step 3, which is 4 percent above step 2. FPRAC has used this methodology for calculating costs for many years and has found it to be a fairly accurate predictor of cost.

Future wage schedules will be based on local wage surveys that will include survey counties that were previously survey counties in wage areas with different prevailing wage levels. As such, the measurable prevailing wage levels within a wage area are likely to be different than those measured in the most recent local wage surveys. For instance, starting with new full-scale wage surveys beginning in October 2027, the proposed San Jose-San Francisco-Oakland wage area will include Monterey and San Joaquin Counties, CA, in its wage surveys. It is possible that inclusion of these counties in an enlarged San Jose-San Francisco-Oakland survey area might result in prevailing wage levels being measured at a lower level than if they were not included. However, as a result of statistical sampling methods and natural changes in wage growth across the mix of private industrial establishments that will be surveyed, it is not certain what, if any, impact will occur on wage survey results until a full-scale wage survey has been completed in the expanded wage area. It is reasonable to anticipate that adding counties with lower prevailing wage levels to a survey area with higher prevailing wage levels will result in somewhat lower wage survey findings overall and lower wage schedules. However, the floor increase provision that has been included in appropriations law each year since FY 2004 would offset that impact if the provision is continued. As long as a floor increase provision provides for a minimum annual adjustment amount for a wage schedule, the combining of counties with lower prevailing wage levels into a wage area with higher prevailing wage levels will have no impact on the payable wage rates in that wage area should the floor increase amount continue to be higher than the pay cap amount. In this scenario, the additional payroll costs that agencies would incur in Monterey and San Joaquin counties would be because employees there would be paid wage rates from the San Jose-San Francisco-Oakland wage schedule that are higher than wage rates applicable in their current wage areas.

Agency payroll providers will need to properly assign official duty station codes within their systems for impacted employees by reassigning the codes from one FWS wage schedule to another. Although around 17,000 FWS employees will be affected by these changes in wage area boundaries, there are far fewer official duty station codes that will need to be updated by the four major payroll providers in their payroll systems. OPM estimates this number of impacted official duty station codes to be around 254. This is not anticipated to be a significant additional cost burden or to require additional funding as agency payroll systems are often updated as a routine business matter as pay area boundaries change and as wage schedules are updated every year. For example, the payroll providers implemented changes in GS locality pay area affecting around 34,000 employees in January 2024. However, OPM estimates that implementing payroll changes in terms of the time required for the 254 official duty station codes across the four payroll providers at a cost of around $7,800. OPM calculated this estimate by allowing for ten minutes to manually update each duty station change in each of the four payroll systems by a mid-range payroll processing staff member with an average salary and benefits cost of around $96,000 per year, which equates to a cost of around $7.66 per change per provider. OPM invited public comment on this estimate, but no comments were received.

5. Benefits

This rule has important benefits. Employees have expressed understandable equity concerns since the mid-1990s about why there are different geographic boundaries defined for the Federal Government's two main pay systems. Over the years, Members of Congress have expressed interest in this issue and written letters in support of aligning FWS wage areas and GS locality pay areas. FPRAC heard testimony from Congressional staff, local union and management representatives, and employees in support of better aligning the geographic boundaries of FWS wage areas and GS locality pay areas, including testimony that a high rate of commuting interchange—which, for example, triggered Monroe County's reassignment from the Rest of U.S. GS locality pay area to the New York-Newark GS locality pay area in 2005—should also be reflected in the FWS wage areas. This final rule will address most of the internal equity and fairness concerns found across the country that are unnecessarily damaging to employee morale when an alternative and defensible approach is possible. This can also be accomplished at a relatively low cost of an increase in base payroll of only around 1 percent. FPRAC acknowledged that, although around 2,000 FWS employees will be placed on lower wage schedules as a result of these actions, around 1,870 of these employees will be entitled to pay retention. Accordingly, FPRAC found that the benefits to FWS employees overall outweighed the concerns regarding the limited number of positions negatively impacted.

Further, FPRAC members, agency and union representatives, and employees expressed concerns at public FPRAC meetings that the FWS no longer reflects modern compensation practices for prevailing rate tradespeople and laborers and that updating the wage area definition criteria to be more similar to the GS locality pay area criteria will be a step in the right direction to begin modernizing the prevailing rate system. Despite the projection of continuing application of the floor and pay cap provisions to the FWS wage schedules, implementation of these changes to the criteria used to define and maintain FWS wage areas, in particular adopting the use of employment interchange measures and CSA definitions, will better position the FWS to align with regional prevailing wage practices because they better reflect current commuting, employment, and recruitment patterns.

6. Alternatives

Over the course of 15 working group meetings, at which there was extensive discussion, FPRAC considered various options to address the FWS and GS pay equity concerns expressed in the House Report language. These discussions had been taking place for many years previously without consensus. One alternative to the approach adopted in this final rule was to make no changes to the current FWS wage areas and encourage agencies to use pay flexibilities when challenged with recruitment issues. However, maintaining the status quo will not resolve employee equity concerns or address the interests expressed by Congress.

Another option considered was conducting piecemeal reviews of wage areas using the existing wage area definition criteria (distance, commuting, demographic), only when employees or other stakeholders raise concerns. This has been FPRAC's approach since 2012, but it has not addressed the fundamental inequities resulting from managing the FWS and GS with different sets of rules (i.e., different criteria) for defining pay area boundaries. The current regulatory criteria were not designed to allow for changing wage area definitions absent factors such as military base closures or changes in MSAs.

FPRAC also considered adding CSA definitions alone as a criterion to the existing regulatory criteria in 5 CFR 532.211. OMB published new CSA and MSA definitions on July 21, 2023, in OMB Bulletin 23-01, and FPRAC has a practice of using new MSA definitions when they become available. The new OMB definitions and an analysis of the current FWS regulatory criteria to define wage areas did not appear to address some of the most contentious counties under FPRAC discussion as those counties still did not align with the GS locality pay areas. For example, the 2023 OMB definitions moved Monroe County, PA, from the New York-Newark, NY-NJ-CT-PA, CSA to the Allentown-Bethlehem-East Stroudsburg, PA-NJ, CSA. OMB Bulletin No. 20-01 (which FPRAC previously used) included the East Stroudsburg, PA, MSA, comprised only of Monroe County, PA, in the New York CSA. OMB Bulletin No. 23-01 supersedes the previous ones and lists Monroe County as the sole county of the East Stroudsburg, PA, micropolitan statistical area, and part of the Allentown-Bethlehem-East Stroudsburg, PA-NJ, CSA. Both Monroe County and the Allentown CSA are part of the New York locality pay area for GS employees. Based on the updated OMB Bulletin and applying the criteria in this final rule, Monroe County will be defined to a wage area consistent with the rest of the Allentown-Bethlehem-East Stroudsburg, PA-NJ, CSA. Applying employment interchange analysis to better recognize regional commuting patterns helps to clarify where best to define the Allentown-Bethlehem-East Stroudsburg, PA-NJ, CSA and results in the Allentown-Bethlehem-East Stroudsburg, PA-NJ, CSA, including Monroe County, being defined as part of the New York, Newark wage area.

The committee also considered and decided against merely adopting and applying GS locality pay area definitions to FWS wage areas. For GS locality pay purposes, pay disparities with the non-Federal sector for GS employees stationed in a locality pay area are based on data for the entire locality pay area. The FWS continues the concept of using survey areas and areas of application because FWS employees tend to be employed in greater numbers at military installations and VA Medical Centers and not throughout an entire wage area. In contrast, GS employees are widely distributed geographically at all agencies.

FPRAC's members had disparate views on how future wage schedules based on these geographic changes in wage area definitions could best reflect prevailing wage levels. One view held that combining the survey areas of two wage areas together should result in an entirely new wage schedule being applied to FWS employees in the expanded wage area. OPM determined that this method was not appropriate given that the floor increase provision in appropriations law each year requires that wage schedules be adjusted upwards by the same percentage adjustment amount received by GS employees in the area. It would also be contrary to longstanding precedent to ignore statutory pay cap and floor increase provisions when wage survey areas change. Consequently, in this rule OPM first adds counties moving between wage areas to the area of application of the gaining wage area and subsequently adds counties to survey areas for the next full-scale wage survey in the wage area.

These regulations will not immediately expand survey areas for continuing, but enlarged, wage areas. Instead, abolished wage areas will first be merged into the areas of application of continuing wage areas and subsequently added to the survey areas for the next regularly scheduled full wage surveys beginning in FY 2026, FY 2027, and FY 2028. This will provide DOD time to allocate and train appropriate additional staff, if needed. OPM invited comment on any additional alternative approaches that could be considered that are in accordance with the permanent and appropriations laws governing the development of FWS wage schedules. One labor organization suggested that changes to FWS wage areas should be automatic based on changes to GS locality pay areas. Comment 478. Another commenter supported this suggestion. Comment 497. FWS wage area changes have never been automatic and no changes in wage area boundaries have ever been made without first receiving an FPRAC recommendation. This rule will not change this practice. FWS wage area boundaries could be revised through rulemaking concurrent with changes in GS locality pay area boundaries after receiving and approving an FPRAC recommendation and with the opportunity for public input.

Procedural Issues and Regulatory Review

Regulatory Review

OPM has examined the impact of this rule as required by Executive Order 12866 (Sept. 30, 1993), as supplemented by Executive Order 13563 (Jan. 18, 2011) and amended by Executive Order 14094 (Apr. 6, 2023), which directs agencies to assess all costs and benefits of available regulatory alternatives and, if regulation is necessary, to select regulatory approaches that maximize net benefits (including potential economic, environmental, public, health, and safety effects, distributive impacts, and equity). A regulatory impact analysis must be prepared for certain rules with effects of $200 million or more in any one year. This rule does not reach that threshold but has otherwise been designated as a “significant regulatory action” under section 3(f) of Executive Order 12866, as amended by Executive Order 14094.

Regulatory Flexibility Act

The Acting Director of OPM certifies that this rule will not have a significant economic impact on a substantial number of small entities because the rule will apply only to Federal agencies and employees.

Federalism

This rule will not have substantial direct effects on the States, on the relationship between the National Government and the States, or on distribution of power and responsibilities among the various levels of government. Therefore, in accordance with Executive Order 13132 (Aug. 10, 1999), it is determined that this final rule does not have sufficient federalism implications to warrant preparation of a Federalism Assessment.

Civil Justice Reform

This rule meets the applicable standards set forth in section 3(a) and (b)(2) of Executive Order 12988 (Feb. 7, 1996).

Unfunded Mandates Act of 1995

Section 202 of the Unfunded Mandates Reform Act of 1995 (UMRA) requires that agencies assess anticipated costs and benefits before issuing any rule that would impose spending costs on State, local, or Tribal governments in the aggregate, or on the private sector, in any 1 year of $100 million in 1995 dollars, updated annually for inflation. That threshold is currently approximately $183 million. This rule will not result in the expenditure by State, local, or Tribal governments, in the aggregate, or by the private sector, in excess of the threshold. Thus, no written assessment of unfunded mandates is required.

Congressional Review Act

Subtitle E of the Small Business Regulatory Enforcement Fairness Act of 1996 (also known as the Congressional Review Act) (5 U.S.C. 801 et seq.) requires rules (as defined in 5 U.S.C. 804) to be submitted to Congress before taking effect. OPM will submit to Congress and the Comptroller General of the United States a report regarding the issuance of this action before its effective date, as required by 5 U.S.C. 801. OMB's Office of Information and Regulatory Affairs has determined that this rule meets the criteria in 5 U.S.C. 804(2).

Paperwork Reduction Act

Notwithstanding any other provision of law, no person is required to respond to, nor shall any person be subject to a penalty for failure to comply with a collection of information subject to the requirements of the Paperwork Reduction Act of 1995 (44 U.S.C. 3501 et seq.) (PRA), unless that collection of information displays a currently valid OMB Control Number.

OPM plans to use an existing collection, Establishment Information Form, Wage Data Collection Form, and Wage Data Collection Continuation Form approved under OMB control number 3206-0036 in association with this final rule. OPM does not believe this rule will result in a significant change to the burden, reporting, recordkeeping, and other compliance requirements as discussed in the preamble of the rule. Additional information regarding this collection—including all current background materials—can be found at Information Collection Review (reginfo.gov) by using the search function to enter either the title of the collection or the OMB Control Number.

List of Subjects in 5 CFR Part 532

Administrative practice and procedure, Freedom of information, Government employees, Reporting and recordkeeping requirements, Wages.

Office of Personnel Management.
Kayyonne Marston,
Federal Register Liaison.

For the reasons stated in the preamble, OPM amends 5 CFR part 532 as follows:

PART 532—PREVAILING RATE SYSTEMS

1. The authority citation for part 532 is revised to read as follows:

Authority: 5 U.S.C. 5343, 5346. Sec. 532.707 also issued under 5 U.S.C. 552.

2. Revise § 532.211 to read as follows

§ 532.211 Criteria for appropriated fund wage areas.

(a) Each wage area shall consist of one or more survey areas along with nonsurvey areas, if any.

(1) Survey area. A survey area is composed of the counties, parishes, cities, townships, or similar geographic entities in which survey data are collected. Survey areas are established and maintained where there are a minimum of 100 or more wage employees subject to a regular wage schedule and those employees are located close to concentrations of private sector employment such as found in a Combined Statistical Area or Metropolitan Statistical Area.

(2) Nonsurvey area. Nonsurvey counties, parishes, cities, townships, or similar geographic entities may be combined with the survey area(s) to form the wage area through consideration of criteria including local commuting patterns such as employment interchange measures, distance, transportation facilities, geographic features; similarities in overall population, employment, and the kinds and sizes of private industrial establishments; and other factors relevant to the process of determining and establishing rates of pay for wage employees at prevailing wage levels.

(b) Wage areas shall include wherever possible a recognized economic community such as a Combined Statistical Area, a Metropolitan Statistical Area, or a political unit such as a county. Two or more economic communities or political units, or both, may be combined to constitute a single wage area; however, except in unusual circumstances and as an exception to the criteria, an individually defined Combined Statistical Area, Metropolitan Statistical Area, county or similar geographic entity shall not be subdivided for the purpose of defining a wage area.

(c) Except as provided in paragraph (a) of this section, wage areas shall be established and maintained when:

(1) There is a minimum of 100 wage employees subject to the regular schedule and the lead agency indicates that a local installation has the capacity to do the survey; and

(2) There is, within a reasonable commuting distance of the concentration of Federal employment:

(i) A minimum of either 20 establishments within survey specifications having at least 50 employees each; or 10 establishments having at least 50 employees each, with a combined total of 1,500 employees; and

(ii) The total private enterprise employment in the industries surveyed in the survey area is at least twice the Federal wage employment in the survey area.

(d)(1) Adjacent economic communities or political units meeting the separate wage area criteria in paragraphs (b) and (c) of this section may be combined through consideration of local commuting patterns such as employment interchange measures, distance, transportation facilities, geographic features; similarities in overall population, employment, and the kinds and sizes of private industrial establishments; and other factors relevant to the process of determining and establishing rates of pay for wage employees at prevailing wage levels.

(2) When two wage areas are combined, the survey area of either or both may be used, depending on the concentrations of Federal and private employment and locations of establishments, the proximity of the survey areas to each other, and the extent of economic similarities or differences as indicated by relative levels of wage rates in each of the potential survey areas.

(e) Appropriated fund wage and survey area definitions are set out as appendix C to this subpart and are incorporated in and made part of this section.

(f) A single contiguous military installation defined as a Joint Base that will otherwise overlap two separate wage areas shall be included in only a single wage area. The wage area of such a Joint Base shall be defined to be the wage area with the most favorable payline based on an analysis of the simple average of the 15 nonsupervisory second step rates on each one of the regular wage schedules applicable in the otherwise overlapped wage areas.

3. Revise and republish appendix A to subpart B to read as follows:

Appendix A to Subpart B of Part 532—Nationwide Schedule of Appropriated Fund Regular Wage Surveys

This appendix shows the annual schedule of wage surveys. It lists all States alphabetically, each State being followed by an alphabetical listing of all wage areas in the State. Information given for each wage area includes—

(1) The lead agency responsible for conducting the survey;

(2) The month in which the survey will begin; and

(3) Whether full-scale surveys will be done in odd or even numbered fiscal years.

State | Wage area | Lead agency | Beginning month of survey | Fiscal year of full-scale survey odd or even
Alabama | Birmingham-Cullman-Talladega | DoD | January | Even.
| Dothan | DoD | July | Odd.
| Huntsville | DoD | April | Even.
| Montgomery-Selma | DoD | August | Odd.
Alaska | Alaska | DoD | July | Even.
Arizona | Northeastern Arizona | DoD | March | Odd.
| Phoenix | DoD | March | Odd.
| Tucson | DoD | March | Odd.
Arkansas | Little Rock | DoD | July | Even.
California | Fresno | DoD | February | Odd.
| Los Angeles | DoD | November | Odd.
| Sacramento-Roseville | DoD | February | Odd.
| San Diego | DoD | September | Odd.
| San Jose-San Francisco-Oakland | DoD | October | Even.
Colorado | Denver | DoD | January | Odd.
| Southern Colorado | DoD | January | Even.
District of Columbia | Washington-Baltimore-Arlington | DoD | July | Odd.
Florida | Cocoa Beach | DoD | October | Even.
| Jacksonville | DoD | January | Odd.
| Miami-Port St. Lucie-Fort Lauderdale | DoD | May | Odd.
| Panama City | DoD | September | Even.
| Pensacola | DoD | September | Odd.
| Tampa-St. Petersburg | DoD | April | Even.
Georgia | Albany | DoD | August | Odd.
| Atlanta | DoD | May | Odd.
| Augusta | DoD | June | Odd.
| Macon | DoD | June | Odd.
| Savannah | DoD | May | Odd.
Hawaii | Hawaii | DoD | June | Even.
Idaho | Boise | DoD | July | Odd.
Illinois | Bloomington-Pontiac | DoD | September | Odd.
| Chicago-Naperville, IL | DoD | September | Even.
Indiana | Evansville-Henderson | DoD | October | Odd.
| Fort Wayne-Marion | DoD | October | Odd.
| Indianapolis-Carmel-Muncie | DoD | October | Odd.
Iowa | Cedar Rapids-Iowa City | DoD | July | Even.
| Davenport-Moline | DoD | October | Even.
| Des Moines | DoD | September | Odd.
Kansas | Manhattan | DoD | November | Even.
| Wichita | DoD | November | Even.
Kentucky | Lexington | DoD | February | Even.
| Louisville | DoD | February | Odd.
Louisiana | Lake Charles-Alexandria | DoD | April | Even.
| New Orleans | DoD | June | Even.
| Shreveport | DoD | May | Even.
Maine | Augusta | DoD | May | Even.
| Central and Northern Maine | DoD | June | Even.
Massachusetts | Boston-Worcester-Providence | DoD | August | Even.
Michigan | Detroit-Warren-Ann Arbor | DoD | January | Odd.
| Northwestern Michigan | DoD | August | Odd.
| Southwestern Michigan | DoD | October | Even.
Minnesota | Duluth | DoD | June | Odd.
| Minneapolis-St. Paul | DoD | April | Odd.
Mississippi | Biloxi | DoD | November | Even.
| Jackson | DoD | February | Odd.
| Meridian | DoD | February | Odd.
| Northern Mississippi | DoD | February | Even.
Missouri | Kansas City | DoD | October | Odd.
| St. Louis | DoD | October | Odd.
| Southern Missouri | DoD | October | Odd.
Montana | Montana | DoD | July | Even.
Nebraska | Omaha | DoD | October | Odd.
Nevada | Las Vegas | DoD | September | Even.
| Reno | DoD | March | Even.
New Hampshire | Portsmouth | DoD | September | Even.
New Mexico | Albuquerque-Santa Fe-Los Alamos | DoD | April | Odd.
New York | Albany-Schenectady | DoD | March | Odd.
| Buffalo | DoD | September | Odd.
| New York-Newark | DoD | January | Even.
| Northern New York | DoD | March | Odd.
| Rochester | DoD | April | Even.
| Syracuse-Utica-Rome | DoD | March | Even.
North Carolina | Asheville | DoD | June | Even.
| Central North Carolina | DoD | May | Even.
| Charlotte-Concord | DoD | August | Odd.
| Southeastern North Carolina | DoD | January | Odd.
North Dakota | North Dakota | DoD | March | Even.
Ohio | Cincinnati | DoD | January | Odd.
| Cleveland-Akron-Canton | DoD | April | Odd.
| Columbus-Marion-Zanesville | DoD | January | Odd.
| Dayton | DoD | January | Even.
Oklahoma | Oklahoma City | DoD | August | Odd.
| Tulsa | DoD | August | Odd.
Oregon | Portland-Vancouver-Salem | DoD | July | Even.
| Southwestern Oregon | DoD | June | Even.
Pennsylvania | Harrisburg-York-Lebanon | DoD | May | Even.
| Philadelphia-Reading-Camden | DoD | October | Even.
| Pittsburgh | DoD | July | Odd.
| Scranton-Wilkes-Barre | DoD | August | Odd.
Puerto Rico | Puerto Rico | DoD | July | Odd.
South Carolina | Charleston | DoD | July | Even.
| Columbia | DoD | May | Even.
South Dakota | Eastern South Dakota | DoD | October | Even.
Tennessee | Eastern Tennessee | DoD | February | Odd.
| Memphis | DoD | February | Even.
| Nashville | DoD | February | Even.
Texas | Austin | DoD | June | Even.
| Corpus Christi-Kingsville-Alice | DoD | June | Even.
| Dallas-Fort Worth | DoD | October | Odd.
| El Paso | DoD | April | Even.
| Houston-Galveston-Texas City | DoD | March | Even.
| San Antonio | DoD | June | Odd.
| Texarkana | DoD | April | Odd.
| Waco | DoD | May | Odd.
| Western Texas | DoD | May | Odd.
| Wichita Falls, Texas-Southwestern Oklahoma | DoD | July | Even.
Utah | Utah | DoD | July | Odd.
Virginia | Richmond | DoD | November | Odd.
| Roanoke | DoD | November | Even.
| Virginia Beach-Chesapeake | DoD | May | Even.
Washington | Seattle-Everett | DoD | September | Even.
| Southeastern Washington- Eastern Oregon | DoD | June | Odd.
| Spokane | DoD | July | Odd.
West Virginia | West Virginia | DoD | March | Odd.
Wisconsin | Madison | DoD | July | Even.
| Milwaukee-Racine-Waukesha | DoD | June | Odd.
| Southwestern Wisconsin | DoD | June | Even.
Wyoming | Wyoming | DoD | January | Even.

4. Revise and republish appendix C to subpart B to read as follows:

Appendix C to Subpart B of Part 532—Appropriated Fund Wage and Survey Areas

This appendix lists the wage area definitions for appropriated fund employees. With a few exceptions, each area is defined in terms of county units, independent cities, or a similar geographic entity. Each wage area definition consists of:

(1) Wage area title. Wage areas usually carry the title of the principal city in the area. Sometimes, however, the area title reflects a broader geographic area, such as Combined Statistical Area or Metropolitan Statistical Area.

(2) Survey area definition. Lists each county, independent city, or a similar geographic entity in the survey area.

(3) Area of application definition. Lists each county, independent city, or a similar geographic entity which, in addition to the survey area, is in the area of application.

Definitions of Wage Areas and Wage Area Survey Areas

ALABAMA

Birmingham-Cullman-Talladega

Survey Area

Alabama:

Calhoun (effective for wage surveys beginning in January 2028)

Etowah (effective for wage surveys beginning in January 2028)

Jefferson

St. Clair

Shelby

Talladega (effective for wage surveys beginning in January 2028)

Tuscaloosa

Walker

Area of Application. Survey area plus:

Alabama:

Bibb

Blount

Calhoun (effective until January 2028)

Chilton

Clay

Coosa

Cullman

Etowah (effective until January 2028)

Fayette

Greene

Hale

Lamar

Marengo

Perry

Pickens

Talladega (effective January 2028)

Winston

Dothan

Survey Area

Alabama:

Dale

Houston

Georgia:

Early

Area of Application. Survey area plus:

Alabama:

Barbour

Coffee

Geneva

Henry

Georgia:

Clay

Miller

Seminole

Huntsville

Survey Area

Alabama:

Limestone

Madison

Marshall

Morgan

Area of Application. Survey area plus:

Alabama

Colbert

DeKalb

Franklin

Lauderdale

Lawrence

Marion

Tennessee

Giles

Lincoln

Wayne

Montgomery-Selma

Survey Area

Alabama

Autauga

Elmore

Montgomery

Area of Application. Survey area plus:

Alabama

Bullock

Butler

Crenshaw

Dallas

Lowndes

Pike

Wilcox

ALASKA

Anchorage

Survey Area

Alaska: (boroughs and the areas within a 24-kilometer (15-mile) radius of their corporate city limits)

Anchorage

Fairbanks

Juneau

Area of Application. Survey area plus:

Alaska:

State of Alaska (except special area schedules)

ARIZONA

Northeastern Arizona

Survey Area

Arizona:

Apache

Coconino

Navajo

New Mexico:

San Juan

Area of Application. Survey area plus:

Colorado:

Dolores

Gunnison (Only includes the Curecanti National Recreation Area portion)

La Plata

Montezuma

Montrose

Ouray

San Juan

San Miguel

Utah:

Garfield (Only includes the Bryce Canyon, Capitol Reef, and Canyonlands National Parks portions)

Grand (Only includes the Arches and Canyonlands National Parks portions)

Iron (Only includes the Cedar Breaks National Monument and Zion National Park portions)

Kane

San Juan

Washington

Wayne (Only includes the Capitol Reef and Canyonlands National Parks portions)

Phoenix

Survey Area

Arizona:

Gila

Maricopa

Area of Application. Survey area plus:

Arizona:

Pinal

Yavapai

Tucson

Survey Area

Arizona:

Pima

Area of Application. Survey area plus:

Arizona:

Cochise

Graham

Greenlee

Santa Cruz

ARKANSAS

Little Rock

Survey Area

Arkansas:

Jefferson

Pulaski

Saline

Area of Application. Survey area plus:

Arkansas:

Arkansas

Ashley

Baxter

Boone

Bradley

Calhoun

Chicot

Clark

Clay

Cleburne

Cleveland

Conway

Dallas

Desha

Drew

Faulkner

Franklin (Does not include the Fort Chaffee portion)

Fulton

Garland

Grant

Greene

Hot Spring

Independence

Izard

Jackson

Johnson

Lawrence

Lincoln

Logan

Lonoke

Marion

Monroe

Montgomery

Newton

Ouachita

Perry

Phillips

Pike

Polk

Pope

Prairie

Randolph

Scott

Searcy

Sharp

Stone

Union

Van Buren

White

Woodruff

Yell

CALIFORNIA

Fresno

Survey Area

California:

Fresno

Kings

Tulare

Area of Application. Survey area plus:

California:

Madera

Mariposa

Tuolumne (Only includes the Yosemite National Park portion)

Los Angeles

Survey Area

California:

Kern (effective for wage surveys beginning in November 2026)

Los Angeles

Orange (effective for wage surveys beginning in November 2026)

Riverside (effective for wage surveys beginning in November 2026)

San Bernardino (effective for wage surveys beginning in November 2026)

Santa Barbara (effective for wage surveys beginning in November 2026)

Ventura (effective for wage surveys beginning in November 2026)

Area of Application. Survey area plus:

California:

Inyo (Only includes the China Lake Naval Weapons Center portion)

Kern (effective until November 2026)

Orange (effective until November 2026)

Riverside (effective until November 2026)

San Bernardino (effective until November 2026)

Santa Barbara (effective until November 2026)

San Luis Obispo

Ventura (effective until November 2026)

Sacramento-Roseville

Survey Area

California:

Placer

Sacramento

Sutter

Yolo

Yuba

Area of Application. Survey area plus:

California:

Amador

Butte

Colusa

El Dorado

Glenn

Humboldt

Lake

Modoc

Nevada

Plumas

Shasta

Sierra

Siskiyou

Tehama

Trinity

San Diego

Survey Area

California:

San Diego

Arizona:

Yuma (effective for wage surveys beginning in September 2027)

Area of Application. Survey area plus:

Arizona:

La Paz

Yuma (effective until September 2027)

California:

Imperial

San Jose-San Francisco-Oakland

Survey Area

California:

Alameda

Contra Costa

Marin

Monterey (effective for wage surveys beginning in October 2027)

Napa

San Joaquin (effective for wage surveys beginning in October 2027)

San Francisco

San Mateo

Santa Clara

Solano

Area of Application. Survey area plus:

California:

Calaveras

Mendocino

Merced

Monterey (effective until October 2027)

San Benito

San Joaquin (effective until October 2027)

Santa Cruz

Sonoma

Stanislaus

Tuolumne (Does not include the Yosemite National Park portion)

COLORADO

Denver

Survey Area

Colorado:

Adams

Arapahoe

Boulder

Broomfield

Denver

Douglas

Gilpin

Jefferson

Area of Application. Survey area plus:

Colorado:

Clear Creek

Eagle

Elbert

Garfield

Grand

Jackson

Lake

Larimer

Lincoln

Logan

Morgan

Park

Phillips

Pitkin

Rio Blanco

Routt

Sedgwick

Summit

Washington

Weld

Yuma

Southern Colorado

Survey Area

Colorado:

El Paso

Pueblo

Teller

Area of Application. Survey area plus:

Colorado:

Alamosa

Archuleta

Baca

Bent

Chaffee

Cheyenne

Conejos

Costilla

Crowley

Custer

Delta

Fremont

Gunnison (does not includes the Curecanti National Recreation Area portion)

Hinsdale

Huerfano

Kiowa

Kit Carson

Las Animas

Mineral

Otero

Prowers

Rio Grande

Saguache

CONNECTICUT

New Haven-Hartford

Survey Area

Connecticut:

Hartford

New Haven

New London (effective for wage surveys beginning in April 2027)

Massachusetts:

Hampden (effective for wage surveys beginning in April 2027)

Hampshire (effective for wage surveys beginning in April 2027)

Area of Application. Survey area plus:

Connecticut:

Litchfield

Middlesex

New London (effective until April 2027)

Tolland

Windham

Massachusetts:

Franklin

Hampden (effective until April 2027)

Hampshire (effective until April 2027)

DISTRICT OF COLUMBIA

Washington-Baltimore-Arlington

Survey Area

District of Columbia:

Washington, DC

Maryland (city):

Baltimore (effective for wage surveys beginning in July 2027)

Maryland (counties):

Anne Arundel (effective for wage surveys beginning in July 2027)

Baltimore (effective for wage surveys beginning in July 2027)

Carroll (effective for wage surveys beginning in July 2027)

Charles

Frederick

Harford (effective for wage surveys beginning in July 2027)

Howard (effective for wage surveys beginning in July 2027)

Montgomery

Prince George's

Washington (effective for wage surveys beginning in July 2027)

Pennsylvania:

Franklin (effective for wage surveys beginning in July 2027)

Virginia (cities):

Alexandria

Fairfax

Falls Church

Manassas

Manassas Park

Virginia (counties):

Arlington

Fairfax

King George (effective for wage surveys beginning in July 2027)

Loudoun

Prince William

West Virginia:

Berkley (effective for wage surveys beginning in July 2027)

Area of Application. Survey area plus:

Maryland (city):

Baltimore (effective until July 2027)

Maryland (counties)

Allegany

Anne Arundel (effective until July 2027)

Baltimore (effective until July 2027)

Calvert

Caroline

Carroll (effective until July 2027)

Dorchester

Garrett

Harford (effective until July 2027)

Howard (effective until July 2027)

Kent

Queen Anne's

St. Mary's

Talbot

Washington (effective until July 2027)

Pennsylvania:

Franklin (effective until July 2027)

Fulton

Virginia (cities):

Fredericksburg

Harrisonburg

Staunton

Waynesboro

Winchester

Virginia (counties):

Albemarle (Only includes the Shenandoah National Park portion)

Augusta

Caroline

Clarke

Culpeper

Fauquier

Frederick

Greene (Only includes the Shenandoah National Park portion)

King George (effective until July 2027)

Madison

Orange

Page

Rappahannock

Rockingham

Shenandoah

Spotsylvania

Stafford

Warren

Westmoreland

West Virginia:

Berkeley (effective until July 2027)

Hampshire

Hardy

Jefferson

Mineral

Morgan

FLORIDA

Cocoa-Beach

Survey Area

Florida:

Brevard

Area of Application. Survey area.

Jacksonville

Survey Area

Florida:

Alachua

Baker

Clay

Columbia (effective for wage surveys beginning in January 2027)

Duval

Nassau

Orange (effective for wage surveys beginning in January 2027)

St. Johns

Sumter (effective for wage surveys beginning in January 2027)

Georgia:

Camden

Area of Application. Survey area plus:

Florida:

Bradford

Citrus

Columbia (effective until January 2027)

Dixie

Flagler

Gilchrist

Hamilton

Lafayette

Lake

Levy

Madison

Marion

Orange (effective until January 2027)

Osceola

Polk

Putnam

Seminole

Sumter (effective until January 2027)

Suwannee

Taylor

Union

Volusia

Georgia:

Charlton

Miami-Port St. Lucie-Fort Lauderdale

Survey Area

Florida:

Miami-Dade

Palm Beach (effective for wage surveys beginning in May 2027)

Area of Application. Survey area plus:

Florida:

Broward

Collier

Glades

Hendry

Highlands

Indian River

Lee

Martin

Monroe

Okeechobee

Palm Beach (effective until May 2027)

St. Lucie

Area of Application. Survey area.

Panama City

Survey Area

Florida:

Bay

Gulf

Area of Application. Survey area plus:

Florida:

Calhoun

Franklin

Gadsden

Holmes

Jackson

Jefferson

Leon

Liberty

Wakulla

Washington

Georgia:

Decatur

Pensacola

Survey Area

Florida:

Escambia

Santa Rosa

Area of Application. Survey area plus:

Alabama:

Baldwin

Clarke

Conecuh

Covington

Escambia

Mobile

Monroe

Washington

Florida:

Okaloosa

Walton

Tampa-St. Petersburg

Survey Area

Florida:

Hillsborough

Pasco

Pinellas

Area of Application. Survey area plus:

Florida:

Charlotte

De Soto

Hardee

Hernando

Manatee

Sarasota

GEORGIA

Albany

Survey Area

Georgia:

Colquitt

Dougherty

Lee

Mitchell

Worth

Area of Application. Survey area plus:

Georgia:

Atkinson

Baker

Ben Hill

Berrien

Brooks

Calhoun

Clinch

Coffee

Cook

Echols

Grady

Irwin

Lanier

Lowndes

Quitman

Randolph

Schley

Sumter

Terrell

Thomas

Tift

Turner

Ware

Webster

Atlanta

Survey Area

Alabama:

Lee (effective for wage surveys beginning in May 2027)

Macon (effective for wage surveys beginning in May 2027)

Russell (effective for wage surveys beginning in May 2027)

Georgia:

Butts

Chattahoochee (effective for wage surveys beginning in May 2027)

Cherokee

Clayton

Cobb

De Kalb

Douglas

Fayette

Forsyth

Fulton

Gwinnett

Henry

Muscogee (effective for wage surveys beginning in May 2027)

Newton

Paulding

Rockdale

Walton

Area of Application. Survey area plus:

Alabama:

Chambers

Cherokee

Cleburne

Lee (effective until May 2027)

Macon (effective until May 2027)

Randolph

Russell (effective until May 2027)

Tallapoosa

Georgia:

Banks

Barrow

Bartow

Carroll

Chattahoochee (effective until May 2027)

Clarke

Coweta

Dawson

Elbert

Fannin

Floyd

Franklin

Gilmer

Gordon

Greene

Habersham

Hall

Haralson

Harris

Hart

Heard

Jackson

Jasper

Lamar

Lumpkin

Madison

Marion

Meriwether

Morgan

Muscogee (effective until May 2027)

Oconee

Oglethorpe

Pickens

Pike

Polk

Putnam

Rabun

Spalding

Stephens

Stewart

Talbot

Taliaferro

Towns

Troup

Union

Upson

White

Augusta

Survey Area

Georgia:

Columbia

McDuffie

Richmond

South Carolina:

Aiken

Area of Application. Survey area plus:

Georgia:

Burke

Emanuel

Glascock

Jefferson

Jenkins

Lincoln

Warren

Wilkes

South Carolina:

Allendale

Bamberg

Barnwell

Edgefield

McCormick

Macon

Survey Area

Georgia:

Bibb

Houston

Jones

Laurens

Twiggs

Wilkinson

Area of Application. Survey area plus:

Georgia:

Baldwin

Bleckley

Crawford

Crisp

Dodge

Dooly

Hancock

Johnson

Macon

Monroe

Montgomery

Peach

Pulaski

Taylor

Telfair

Treutlen

Washington

Wheeler

Wilcox

Savannah

Survey Area

Georgia:

Bryan

Chatham

Effingham

Liberty

South Carolina:

Beaufort (effective for wage surveys beginning in May 2027)

Area of Application. Survey area plus:

Georgia:

Appling

Bacon

Brantley

Bulloch

Candler

Evans

Glynn

Jeff Davis

Long

McIntosh

Pierce

Screven

Tattnall

Toombs

Wayne

South Carolina:

Beaufort (effective until May 2027)

Hampton

Jasper

HAWAII

Hawaii

Survey Area

Hawaii:

Honolulu

Area of Application. Survey area plus:

Hawaii:

Hawaii

Kauai (includes the islands of Kauai and Niihau)

Maui (includes the islands of Maui, Molokai, Lanai, and Kahoolawe)

IDAHO

Boise

Survey Area

Idaho:

Ada

Boise

Canyon

Elmore

Gem

Area of Application. Survey area plus:

Idaho:

Adams

Bannock

Bear Lake

Bingham

Blaine

Bonneville

Butte

Camas

Caribou

Cassia

Clark

Custer

Fremont

Gooding

Jefferson

Jerome

Lemhi

Lincoln

Madison

Minidoka

Oneida

Owyhee

Payette

Power

Teton

Twin Falls

Valley

Washington

ILLINOIS

Bloomington-Pontiac

Survey Area

Illinois:

Champaign

Menard

Sangamon

Vermilion

Area of Application. Survey area plus:

Illinois:

Christian

Clark

Coles

Crawford

Cumberland

De Witt

Douglas

Edgar

Ford

Jasper

Livingston

Logan

McLean

Macon

Morgan

Moultrie

Piatt

Scott

Shelby

Chicago-Naperville, IL

Survey Area

Illinois:

Cook

Du Page

Kane

Lake

McHenry

Will

Area of Application. Survey area plus:

Illinois:

Boone

Bureau

De Kalb

Grundy

Iroquois

Kankakee

Kendall

La Salle

Ogle

Putnam

Stephenson

Winnebago

Indiana:

Jasper

Lake

La Porte

Newton

Porter

Pulaski

Starke

Wisconsin:

Kenosha

INDIANA

Evansville-Henderson

Survey Area

Indiana:

Daviess

Greene

Knox

Martin

Orange

Area of Application. Survey area plus:

Illinois:

Edwards

Gallatin

Hardin

Lawrence

Richland

Wabash

White

Indiana:

Crawford

Dubois

Gibson

Perry

Pike

Posey

Spencer

Vanderburgh

Warrick

Kentucky:

Crittenden

Daviess

Hancock

Henderson

McLean

Ohio

Union

Webster

Fort Wayne-Marion

Survey Area

Indiana:

Adams

Allen

DeKalb

Huntington

Wells

Area of Application. Survey area plus:

Indiana:

Cass

Elkhart

Fulton

Jay

Kosciusko

LaGrange

Marshall

Noble

St. Joseph

Steuben

Wabash

Whitley

Ohio:

Defiance

Henry

Paulding

Putnam

Williams

Indianapolis-Carmel-Muncie

Survey Area

Indiana:

Boone

Grant (effective for wage surveys beginning in October 2026)

Hamilton

Hancock

Hendricks

Johnson

Lawrence (effective for wage surveys beginning in October 2026)

Marion

Miami (effective for wage surveys beginning in October 2026)

Monroe (effective for wage surveys beginning in October 2026)

Morgan

Shelby

Vigo (effective for wage surveys beginning in October 2026)

Area of Application. Survey area plus:

Indiana:

Bartholomew

Benton

Blackford

Brown

Carroll

Clay

Clinton

Decatur

Delaware

Fayette

Fountain

Grant (effective until October 2026)

Henry

Howard

Jackson

Jennings

Lawrence (effective until October 2026)

Madison

Miami (effective until October 2026)

Monroe (effective until October 2026)

Montgomery

Owen

Parke

Putnam

Randolph

Rush

Sullivan

Tippecanoe

Tipton

Vermillion

Vigo (effective until October 2026)

Warren

Wayne

White

IOWA

Cedar Rapids-Iowa City

Survey Area

Iowa:

Benton

Black Hawk

Johnson

Linn

Area of Application. Survey area plus:

Iowa:

Allamakee

Bremer

Buchanan

Butler

Cedar

Chickasaw

Clayton

Davis

Delaware

Fayette

Floyd

Grundy

Henry

Howard

Iowa

Jefferson

Jones

Keokuk

Mitchell

Tama

Van Buren

Wapello

Washington

Winneshiek

Davenport-Moline

Survey Area

Illinois:

Henry

Rock Island

Iowa:

Scott

Area of Application. Survey area plus:

Illinois:

Brown

Carroll

Cass

Fulton

Hancock

Henderson

Jo Daviess

Knox

Lee

McDonough

Marshall

Mason

Mercer

Peoria

Schuyler

Stark

Tazewell

Warren

Whiteside

Woodford

Iowa:

Clinton

Des Moines

Dubuque

Jackson

Lee

Louisa

Muscatine

Des Moines

Survey Area

Iowa:

Polk

Story

Warren

Area of Application. Survey area plus:

Iowa:

Adair

Appanoose

Boone

Calhoun

Carroll

Cerro Gordo

Clarke

Dallas

Decatur

Franklin

Greene

Guthrie

Hamilton

Hancock

Hardin

Humboldt

Jasper

Kossuth

Lucas

Madison

Mahaska

Marion

Marshall

Monroe

Poweshiek

Ringgold

Union

Wayne

Webster

Winnebago

Worth

Wright

KANSAS

Manhattan

Survey Area

Kansas:

Geary

Riley (effective for wage surveys beginning in November 2027)

Area of Application. Survey area plus:

Kansas:

Brown

Clay

Cloud

Coffey

Dickinson

Lyon

Marshall

Morris

Nemaha

Ottawa

Pottawatomie

Republic

Riley (effective until November 2027)

Saline

Washington

Wichita

Survey Area

Kansas:

Butler

Sedgwick

Area of Application. Survey area plus:

Kansas:

Barber

Barton

Chase

Chautauqua

Cheyenne

Clark

Comanche

Cowley

Decatur

Edwards

Elk

Ellis

Ellsworth

Finney

Ford

Gove

Graham

Grant

Gray

Greeley

Greenwood

Hamilton

Harper

Harvey

Haskell

Hodgeman

Jewell

Kearny

Kingman

Kiowa

Labette

Lane

Lincoln

Logan

McPherson

Marion

Meade

Mitchell

Montgomery

Morton

Neosho

Ness

Norton

Osborne

Pawnee

Phillips

Pratt

Rawlins

Reno

Rice

Rooks

Rush

Russell

Scott

Seward

Sheridan

Sherman

Smith

Stafford

Stanton

Stevens

Sumner

Thomas

Trego

Wallace

Wichita

Wilson

Woodson

KENTUCKY

Lexington

Survey Area

Kentucky:

Bourbon

Clark

Fayette

Jessamine

Madison

Scott

Woodford

Area of Application. Survey area plus:

Kentucky:

Anderson

Bath

Bell

Boyle

Breathitt

Casey

Clay

Estill

Fleming

Franklin

Garrard

Green

Harrison

Jackson

Knott

Knox

Laurel

Lee

Leslie

Lincoln

McCreary

Marion

Menifee

Mercer

Montgomery

Morgan

Nicholas

Owsley

Perry

Powell

Pulaski

Rockcastle

Rowan

Taylor

Washington

Wayne

Whitley

Wolfe

Louisville

Survey Area

Indiana:

Clark

Floyd

Jefferson

Kentucky:

Bullitt

Hardin

Jefferson

Oldham

Area of Application. Survey area plus:

Indiana:

Harrison

Scott

Washington

Kentucky:

Breckinridge

Grayson

Hart

Henry

Larue

Meade

Nelson

Shelby

Spencer

Trimble

LOUISIANA

Lake Charles-Alexandria

Survey Area

Louisiana:

Allen

Beauregard

Calcasieu

Grant

Rapides

Sabine

Vernon

Area of Application. Survey area plus:

Louisiana:

Acadia

Avoyelles

Caldwell

Cameron

Catahoula

Concordia

Evangeline

Franklin

Iberia

Jefferson Davis

Lafayette

La Salle

Madison

Natchitoches

St. Landry

St. Martin

Tensas

Vermilion

Winn

New Orleans

Survey Area

Louisiana:

Jefferson

Orleans

Plaquemines

St. Bernard

St. Charles

St. John the Baptist

St. Tammany

Area of Application. Survey area plus:

Louisiana:

Ascension

Assumption

East Baton Rouge

East Feliciana

Iberville

Lafourche

Livingston

Pointe Coupee

St. Helena

St. James

St. Mary

Tangipahoa

Terrebonne

Washington

West Baton Rouge

West Feliciana

Shreveport

Survey Area

Louisiana:

Bossier

Caddo

Webster

Area of Application. Survey area plus:

Louisiana:

Bienville

Claiborne

De Soto

East Carroll

Jackson

Lincoln

Morehouse

Ouachita

Red River

Richland

Union

West Carroll

Texas:

Gregg

Harrison

Panola

Rusk

Upshur

MAINE

Augusta

Survey Area

Maine:

Kennebec

Knox

Lincoln

Area of Application. Survey area:

Central And Northern Maine

Survey Area

Maine:

Aroostook

Penobscot

Area of Application. Survey area plus:

Maine:

Hancock

Piscataquis

Somerset

Waldo

Washington

MASSACHUSETTS

Boston-Worcester-Providence

Survey Area

Maine:

Androscoggin (effective for wage surveys beginning in August 2026)

Cumberland (effective for wage surveys beginning in August 2026)

Sagadahoc (effective for wage surveys beginning in August 2026)

York (effective for wage surveys beginning in August 2026)

Massachusetts:

Barnstable

Bristol (effective for wage surveys beginning in August 2026)

Essex

Middlesex

Norfolk

Plymouth

Suffolk

Worcester (effective for wage surveys beginning in August 2026)

New Hampshire:

Rockingham (effective for wage surveys beginning in August 2026)

Strafford (effective for wage surveys beginning in August 2026)

Rhode Island:

Bristol (effective for wage surveys beginning in August 2026)

Kent (effective for wage surveys beginning in August 2026)

Newport (effective for wage surveys beginning in August 2026)

Providence (effective for wage surveys beginning in August 2026)

Washington (effective for wage surveys beginning in August 2026)

Area of Application. Survey area plus:

Maine:

Androscoggin (effective until August 2026)

Cumberland (effective until August 2026)

Franklin

Oxford

Sagadahoc (effective until August 2026)

York (effective until August 2026)

Massachusetts:

Bristol (effective until August 2026)

Dukes

Nantucket

Worcester (effective until August 2026)

New Hampshire:

Belknap

Carroll

Cheshire

Coos

Grafton

Hillsborough

Merrimack

Rockingham (effective until August 2026)

Strafford (effective until August 2026)

Sullivan

Rhode Island:

Bristol (effective until August 2026)

Kent (effective until August 2026)

Newport (effective until August 2026)

Providence (effective until August 2026)

Washington (effective until August 2026)

Vermont:

Orange

Windham

Windsor

MICHIGAN

Detroit-Warren-Ann Arbor

Survey Area

Michigan:

Lapeer

Livingston

Macomb

Oakland

St. Clair

Washtenaw (effective for wage surveys beginning in January 2027)

Wayne

Ohio:

Lucas (effective for wage surveys beginning in January 2027)

Area of Application. Survey area plus:

Michigan:

Arenac

Bay

Clare

Clinton

Eaton

Genesee

Gladwin

Gratiot

Huron

Ingham

Isabella

Jackson

Lenawee

Midland

Monroe

Saginaw

Sanilac

Shiawassee

Tuscola

Washtenaw (effective until January 2027)

Ohio:

Fulton

Lucas (effective until January 2027)

Wood

Northwestern Michigan

Survey Area

Michigan:

Delta

Dickinson

Marquette

Area of Application. Survey area plus:

Michigan:

Alcona

Alger

Alpena

Antrim

Baraga

Benzie

Charlevoix

Cheboygan

Chippewa

Crawford

Emmet

Gogebic

Grand Traverse

Houghton

Iosco

Iron

Kalkaska

Keweenaw

Leelanau

Luce

Mackinac

Manistee

Menominee

Missaukee

Montmorency

Ogemaw

Ontonagon

Oscoda

Otsego

Presque Isle

Roscommon

Schoolcraft

Wexford

Wisconsin:

Florence

Marinette

Southwestern Michigan

Survey Area

Michigan:

Barry

Calhoun

Kalamazoo

Van Buren

Area of Application. Survey area plus:

Michigan:

Allegan

Berrien

Branch

Cass

Hillsdale

Ionia

Kent

Lake

Mason

Mecosta

Montcalm

Muskegon

Newaygo

Oceana

Osceola

Ottawa

St. Joseph

MINNESOTA

Duluth

Survey Area

Minnesota:

Carlton

St. Louis

Wisconsin:

Douglas

Area of Application. Survey area plus:

Minnesota:

Aitkin

Becker (only includes the White Earth Indian Reservation portion)

Beltrami

Cass

Clearwater

Cook

Crow Wing

Hubbard

Itasca

Koochiching

Lake

Lake of the Woods

Mahnomen

Wisconsin:

Ashland

Bayfield

Burnett

Iron

Sawyer

Washburn

Minneapolis-St. Paul

Survey Area

Minnesota:

Anoka

Carver

Chisago

Dakota

Hennepin

Morrison (effective for wage surveys beginning in April 2027)

Ramsey

Scott

Stearns (effective for wage surveys beginning in April 2027)

Washington

Wright

Wisconsin:

St. Croix

Area of Application. Survey area plus:

Minnesota:

Benton

Big Stone

Blue Earth

Brown

Chippewa

Cottonwood

Dodge

Douglas

Faribault

Fillmore

Freeborn

Goodhue

Grant

Isanti

Kanabec

Kandiyohi

Lac Qui Parle

Le Sueur

McLeod

Martin

Meeker

Mille Lacs

Morrison (effective until April 2027)

Mower

Nicollet

Olmsted

Pine

Pope

Redwood

Renville

Rice

Sherburne

Sibley

Stearns (effective until April 2027)

Steele

Stevens

Swift

Todd

Traverse

Wabasha

Wadena

Waseca

Watonwan

Winona

Yellow Medicine

Wisconsin:

Pierce

Polk

MISSISSIPPI

Biloxi

Survey Area

Mississippi:

Hancock

Harrison

Jackson

Area of Application. Survey area plus:

Mississippi:

George

Pearl River

Stone

Jackson

Survey Area

Mississippi:

Hinds

Rankin

Warren

Area of Application. Survey area plus:

Mississippi:

Adams

Amite

Attala

Claiborne

Copiah

Franklin

Holmes

Humphreys

Issaquena

Jefferson

Jefferson Davis

Lawrence

Lincoln

Madison

Marion

Pike

Scott

Sharkey

Simpson

Smith

Walthall

Wilkinson

Yazoo

Meridian

Survey Area

Alabama:

Choctaw

Mississippi:

Forrest

Lamar

Lauderdale

Area of Application. Survey area plus:

Alabama:

Sumter

Mississippi:

Clarke

Covington

Greene

Jasper

Jones

Kemper

Leake

Neshoba

Newton

Perry

Wayne

Northern Mississippi

Survey area

Mississippi:

Clay

Grenada

Lee

Leflore

Lowndes

Monroe

Oktibbeha

Area of Application. Survey area plus:

Mississippi:

Alcorn

Bolivar

Calhoun

Carroll

Chickasaw

Choctaw

Coahoma

Itawamba

Lafayette (Does not include the Holly Springs National Forest portion)

Montgomery

Noxubee

Pontotoc (Does not include the Holly Springs National Forest portion)

Prentiss

Quitman

Sunflower

Tallahatchie

Tishomingo

Union (Does not include the Holly Springs National Forest portion)

Washington

Webster

Winston

Yalobusha

MISSOURI

Kansas City

Survey Area

Kansas:

Jefferson (effective for wage surveys beginning in October 2026)

Johnson

Leavenworth

Osage (effective for wage surveys beginning in October 2026)

Shawnee (effective for wage surveys beginning in October 2026)

Wyandotte

Missouri:

Cass

Clay

Jackson

Johnson (effective for wage surveys beginning in October 2026)

Platte

Ray

Area of Application. Survey area plus:

Kansas:

Allen

Anderson

Atchison

Bourbon

Doniphan

Douglas

Franklin

Jackson

Jefferson (effective until October 2026)

Linn

Miami

Osage (effective until October 2026)

Shawnee (effective until October 2026)

Wabaunsee

Missouri:

Adair

Andrew

Atchison

Bates

Buchanan

Caldwell

Carroll

Chariton

Clinton

Daviess

DeKalb

Gentry

Grundy

Harrison

Henry

Holt

Johnson (effective until October 2026)

Lafayette

Linn

Livingston

Macon

Mercer

Nodaway

Pettis

Putnam

Saline

Schuyler

Sullivan

Worth

St. Louis

Survey Area

Illinois:

Clinton

Madison

Monroe

St. Clair

Williamson (effective for wage surveys beginning in October 2026)

Missouri (city):

St. Louis

Missouri (counties):

Boone (effective for wage surveys beginning in October 2026)

Franklin

Jefferson

St. Charles

St. Louis

Area of Application. Survey area plus:

Illinois:

Adams

Alexander

Bond

Calhoun

Clay

Effingham

Fayette

Franklin

Greene

Hamilton

Jackson

Jefferson

Jersey

Johnson

Macoupin

Marion

Montgomery

Perry

Pike

Pope

Pulaski

Randolph

Saline

Union

Washington

Wayne

Williamson (effective until October 2026)

Missouri:

Audrain

Bollinger

Boone (effective until October 2026)

Callaway

Cape Girardeau

Clark

Cole

Cooper

Crawford

Gasconade

Howard

Iron

Knox

Lewis

Lincoln

Madison

Marion

Mississippi

Moniteau

Monroe

Montgomery

Osage

Perry

Pike

Ralls

Randolph

St. Francois

Ste. Genevieve

Scotland

Scott

Shelby

Warren

Washington

Southern Missouri

Survey Area

Missouri:

Christian

Greene

Laclede

Phelps

Pulaski

Webster

Area of Application. Survey area plus:

Kansas:

Cherokee

Crawford

Missouri:

Barry

Barton

Benton

Butler

Camden

Carter

Cedar

Dade

Dallas

Dent

Douglas

Hickory

Howell

Jasper

Lawrence

Maries

Miller

Morgan

New Madrid

Newton

Oregon

Ozark

Polk

Reynolds

Ripley

St. Clair

Shannon

Stoddard

Stone

Taney

Texas

Vernon

Wayne

Wright

MONTANA

Montana

Survey Area

Montana:

Cascade

Lewis and Clark

Yellowstone

Area of Applicaton. Survey area plus:

Montana:

Beaverhead

Big Horn

Blaine

Broadwater

Carbon

Carter

Chouteau

Custer

Daniels

Dawson

Deer Lodge

Fallon

Fergus

Flathead

Gallatin

Garfield

Glacier

Golden Valley

Granite

Hill

Jefferson

Judith Basin

Lake

Liberty

Lincoln

McCone

Madison

Meagher

Mineral

Missoula

Musselshell

Park

Petroleum

Phillips

Pondera

Powder River

Powell

Prairie

Ravalli

Richland

Roosevelt

Rosebud

Sanders

Sheridan

Silver Bow

Stillwater

Sweet Grass

Teton

Toole

Treasure

Valley

Wheatland

Wibaux

Wyoming:

Big Horn

Park

Teton

NEBRASKA

Omaha

Survey Area

Iowa:

Pottawattamie

Nebraska:

Douglas

Lancaster

Sarpy

Area of Applicaton. Survey area plus:

Iowa:

Adams

Audubon

Buena Vista

Cass

Cherokee

Clay

Crawford

Fremont

Harrison

Ida

Mills

Monona

Montgomery

O'Brien

Page

Palo Alto

Plymouth

Pocahontas

Sac

Shelby

Sioux

Taylor

Woodbury

Nebraska:

Adams

Antelope

Arthur

Blaine

Boone

Boyd

Brown

Buffalo

Burt

Butler

Cass

Cedar

Chase

Cherry

Clay

Colfax

Cuming

Custer

Dakota

Dawson

Dixon

Dodge

Dundy

Fillmore

Franklin

Frontier

Furnas

Gage

Garfield

Gosper

Grant

Greeley

Hall

Hamilton

Harlan

Hayes

Hitchcock

Holt

Hooker

Howard

Jefferson

Johnson

Kearney

Keith

Keya Paha

Knox

Lincoln

Logan

Loup

McPherson

Madison

Merrick

Nance

Nemaha

Nuckolls

Otoe

Pawnee

Perkins

Phelps

Pierce

Platte

Polk

Red Willow

Richardson

Rock

Saline

Saunders

Seward

Sherman

Stanton

Thayer

Thomas

Thurston

Valley

Washington

Wayne

Webster

Wheeler

York

South Dakota:

Union

NEVADA

Las Vegas

Survey Area

Nevada:

Clark

Nye

Area of Applicaton. Survey area plus:

Arizona:

Mohave

California:

Inyo (Does not include the China Lake Naval Weapons Center portion.)

Nevada:

Esmeralda

Lincoln

Reno

Survey Area

California:

Lassen (effective for wage surveys beginning in March 2026)

Nevada:

Lyon

Mineral

Storey

Washoe

Area of Applicaton. Survey area plus:

California:

Alpine

Lassen (effective until March 2026)

Mono (Does not cover locations where the Bridgeport, CA, special schedule applies)

Nevada (city):

Carson City

Nevada (county):

Churchill

Douglas

Elko

Eureka

Humboldt

Lander

Pershing

White Pine

NEW MEXICO

Albuquerque-Santa Fe-Los Alamos

Survey Area

New Mexico:

Bernalillo

McKinley (effective for wage surveys beginning in April 2027)

Sandoval

Area of Application. Survey area plus:

New Mexico:

Catron

Cibola

Colfax

Curry

De Baca

Guadalupe

Harding

Lincoln (Does not include the White Sands Missile Range portion)

Los Alamos

McKinley (effective until April 2027)

Mora

Quay

Rio Arriba

Roosevelt

San Miguel

Santa Fe

Socorro (Does not include the White Sands Missile Range portion)

Taos

Torrance

Union

Valencia

NEW YORK

Albany-Schenectady

Survey Area

New York:

Albany

Montgomery

Rensselaer

Saratoga

Schenectady

Area of Applicaton. Survey area plus:

Massachusetts:

Berkshire

New York:

Columbia

Delaware

Fulton

Greene

Hamilton

Schoharie

Warren

Washington

Vermont:

Bennington

Rutland

Buffalo

Survey Area

New York:

Erie

Niagara

Area of Application. Survey area plus:

New York:

Allegany

Cattaraugus

Chautauqua

Wyoming

Pennsylvania:

Elk (Only includes the Allegheny National Forest portion)

Forest (Only includes the Allegheny National Forest portion)

McKean

Warren

New York-Newark

Survey Area

New Jersey:

Bergen

Burlington (Only includes the Joint Base McGuire-Dix-Lakehurst portion)

Essex

Hudson

Middlesex

Monmouth (effective for wage surveys beginning in January 2028)

Morris

Ocean (effective for wage surveys beginning in January 2028)

Passaic

Somerset

Union

New York:

Bronx

Dutchess (effective for wage surveys beginning in January 2028)

Kings

Nassau

New York

Orange

Queens

Suffolk

Westchester

Pennsylvania:

Monroe (effective for wage surveys beginning in January 2028)

Area of Application. Survey area plus:

Connecticut:

Fairfield

New Jersey:

Hunterdon

Mercer

Monmouth (effective until January 2028)

Ocean (effective until January 2028)

Sussex

Warren

New York:

Dutchess (effective until January 2028)

Putnam

Richmond

Rockland

Sullivan

Ulster

Pennsylvania:

Carbon

Lehigh

Monroe (effective until January 2028)

Northampton

Pike

Wayne

Northern New York

Survey Area

New York:

Clinton

Franklin

Jefferson

St. Lawrence

Vermont:

Chittenden

Franklin

Grand Isle

Area of Application. Survey area plus:

New York:

Essex

Lewis

Vermont:

Addison

Caledonia

Essex

Lamoille

Orleans

Washington

Rochester

Survey Area

New York:

Livingston

Monroe

Ontario

Orleans

Steuben

Wayne

Area of Application. Survey area plus:

New York:

Chemung

Genesee

Schuyler

Seneca

Yates

Pennsylvania:

Tioga

Syracuse-Utica-Rome

Survey Area

New York:

Herkimer

Madison

Oneida

Onondaga

Oswego

Area of Application. Survey area plus:

New York:

Broome

Cayuga

Chenango

Cortland

Otsego

Tioga

Tompkins

NORTH CAROLINA

Asheville

Survey Area

North Carolina:

Buncombe

Haywood

Henderson

Madison

Transylvania

Area of Application. Survey area plus:

North Carolina:

Avery

Cherokee

Clay

Graham

Jackson

Macon

Mitchell

Polk

Rutherford

Swain

Yancey

Central North Carolina

Survey Area

North Carolina:

Cumberland

Durham

Harnett

Hoke

Johnston

Orange

Wake

Wayne

Area of Application. Survey area plus:

North Carolina:

Alamance

Bladen

Caswell

Chatham

Davidson

Davie

Edgecombe

Forsyth

Franklin

Granville

Guilford

Halifax

Lee

Montgomery

Moore

Nash

Northampton

Person

Randolph

Richmond

Robeson

Rockingham

Sampson

Scotland

Stokes

Surry

Vance

Warren

Wilson

Yadkin

South Carolina:

Dillon

Marion

Marlboro

Charlotte-Concord

Survey Area

North Carolina:

Cabarrus

Gaston

Mecklenburg

Rowan

Union

Area of Application. Survey area plus:

North Carolina:

Alexander

Anson

Burke

Caldwell

Catawba

Cleveland

Iredell

Lincoln

McDowell

Stanly

Wilkes

South Carolina:

Chester

Chesterfield

Lancaster

York

Southeastern North Carolina

Survey Area

North Carolina:

Brunswick

Carteret

Columbus

Craven

Jones

Lenoir

New Hanover

Onslow

Pamlico

Pender

Area of Application. Survey area plus:

North Carolina:

Beaufort

Bertie

Duplin

Greene

Hyde

Martin

Pitt

Washington

NORTH DAKOTA

North Dakota

Survey Area

Minnesota:

Clay

Polk

North Dakota:

Burleigh

Cass

Grand Forks

McLean

Mercer

Morton

Oliver

Traill

Ward

Area of Application. Survey area plus:

Minnesota:

Becker (does not include the White Earth Indian Reservation portion)

Kittson

Marshall

Norman

Otter Tail

Pennington

Red Lake

Roseau

Wilkin

North Dakota:

Adams

Barnes

Benson

Billings

Bottineau

Bowman

Burke

Cavalier

Dickey

Divide

Dunn

Eddy

Emmons

Foster

Golden Valley

Grant

Griggs

Hettinger

Kidder

LaMoure

Logan

McHenry

McIntosh

McKenzie

Mountrail

Nelson

Pembina

Pierce

Ramsey

Ransom

Renville

Richland

Rolette

Sargent

Sheridan

Sioux

Slope

Stark

Steele

Stutsman

Towner

Walsh

Wells

Williams

OHIO

Cincinnati

Survey Area

Indiana:

Dearborn

Kentucky:

Boone

Campbell

Kenton

Ohio:

Clermont

Hamilton

Warren

Area of Application. Survey area plus:

Indiana:

Franklin

Ohio

Ripley

Switzerland

Union

Kentucky:

Bracken

Carroll

Gallatin

Grant

Lewis

Mason

Owen

Pendleton

Robertson

Ohio:

Adams

Brown

Butler

Clinton

Highland

Cleveland-Akron-Canton

Survey Area

Ohio:

Cuyahoga

Geauga

Lake

Mahoning (effective for wage surveys beginning in April 2027)

Medina

Area of Application. Survey area plus:

Ohio:

Ashland

Ashtabula

Carroll

Columbiana

Coshocton

Crawford

Erie

Holmes

Huron

Lorain

Mahoning (effective until April 2027)

Ottawa

Portage

Richland

Sandusky

Stark

Summit

Trumbull

Tuscarawas

Wayne

Columbus-Marion-Zanesville

Survey Area

Ohio:

Delaware

Fairfield

Franklin

Licking

Madison

Pickaway

Ross (effective for wage surveys beginning in January 2027)

Area of Application. Survey area plus:

Ohio:

Athens

Fayette

Guernsey

Hancock

Hardin

Hocking

Knox

Logan

Marion

Morgan

Morrow

Muskingum

Noble

Perry

Pike

Ross (effective until January 2027)

Seneca

Union

Vinton

Wyandot

Dayton

Survey Area

Ohio:

Champaign

Clark

Greene

Miami

Montgomery

Preble

Area of Application. Survey area plus:

Ohio:

Allen

Auglaize

Darke

Mercer

Shelby

Van Wert

OKLAHOMA

Oklahoma City

Survey Area

Oklahoma:

Canadian

Cleveland

McClain

Oklahoma

Pottawatomie

Area of Application. Survey area plus:

Oklahoma:

Alfalfa

Atoka

Beckham

Blaine

Caddo

Coal

Custer

Dewey

Ellis

Garfield

Garvin

Grady

Grant

Harper

Hughes

Johnston

Kingfisher

Lincoln

Logan

Major

Marshall

Murray

Noble

Payne

Pontotoc

Roger Mills

Seminole

Washita

Woods

Woodward

Tulsa

Survey Area

Oklahoma:

Creek

Mayes

Muskogee

Osage

Pittsburg

Rogers

Tulsa

Wagoner

Area of Application. Survey area plus:

Arkansas:

Benton

Carroll

Crawford

Franklin (Only includes the Fort Chaffee portion)

Madison

Sebastian

Washington

Missouri:

McDonald

Oklahoma:

Adair

Cherokee

Choctaw

Craig

Delaware

Haskell

Kay

Latimer

Le Flore

McCurtain

McIntosh

Nowata

Okfuskee

Okmulgee

Ottawa

Pawnee

Pushmataha

Sequoyah

Washington

OREGON

Portland-Vancouver-Salem

Survey Area

Oregon:

Clackamas

Marion

Multnomah

Polk

Washington

Washington:

Clark

Area of Application. Survey area plus:

Oregon:

Benton

Clatsop

Columbia

Gilliam

Hood River

Linn

Sherman

Tillamook

Wasco

Yamhill

Washington:

Cowlitz

Klickitat

Skamania

Wahkiakum

Southwestern Oregon

Survey Area

Oregon:

Douglas

Jackson

Lane

Area of Application. Survey area plus:

California:

Del Norte

Oregon:

Coos

Crook

Curry

Deschutes

Jefferson

Josephine

Klamath

Lake

Lincoln

PENNSYLVANIA

Harrisburg-York-Lebanon

Survey Area

Pennsylvania:

Cumberland

Dauphin

Lebanon

Union (effective for wage surveys beginning in May 2026)

York

Area of Application. Survey area plus:

Pennsylvania:

Adams

Clinton

Juniata

Lancaster

Lycoming

Mifflin

Perry

Snyder

Union (effective until May 2026)

Philadelphia-Reading-Camden

Survey Area

Delaware:

Kent (effective for wage surveys beginning in October 2027)

New Castle (effective for wage surveys beginning in October 2027)

Maryland:

Cecil (effective for wage surveys beginning in October 2027)

New Jersey:

Burlington (Excluding the Joint Base McGuire-Dix-Lakehurst portion)

Camden

Gloucester

Salem (effective for wage surveys beginning in October 2027)

Pennsylvania:

Bucks

Chester

Delaware

Montgomery

Philadelphia

Area of Application. Survey area plus:

Delaware:

Kent (effective until October 2027)

New Castle (effective until October 2027)

Sussex

Maryland:

Cecil (effective until October 2027)

Somerset

Wicomico

Worcester (Does not include the Assateague Island portion)

New Jersey:

Atlantic

Cape May

Cumberland

Salem (effective until October 2027)

Pennsylvania:

Berks

Schuylkill

Pittsburgh

Survey Area

Pennsylvania:

Allegheny

Beaver

Butler

Cambria (effective for wage surveys beginning in July 2027)

Washington

Westmoreland

Area of Application. Survey area plus:

Ohio:

Belmont

Harrison

Jefferson

Pennsylvania:

Armstrong

Bedford

Blair

Cambria (effective until July 2027)

Cameron

Centre

Clarion

Clearfield

Crawford

Elk (Does not include the Allegheny National Forest portion)

Erie

Fayette

Forest (Does not include the Allegheny National Forest portion)

Greene

Huntingdon

Indiana

Jefferson

Lawrence

Mercer

Potter

Somerset

Venango

West Virginia:

Brooke

Hancock

Marshall

Ohio

Scranton-Wilkes-Barre

Survey Area

Pennsylvania:

Lackawanna

Luzerne

Area of Application. Survey area plus:

Pennsylvania:

Bradford

Columbia

Montour

Northumberland

Sullivan

Susquehanna

Wyoming

PUERTO RICO

Puerto Rico

Survey Area

Puerto Rico (Municipios):

Bayamón

Canóvanas

Carolina

Cataño

Guaynabo

Humacao

Loíza

San Juan

Toa Baja

Trujillo Alto

Area of Application.

Puerto Rico

SOUTH CAROLINA

Charleston

Survey Area

South Carolina:

Berkeley

Charleston

Dorchester

Area of Application. Survey area plus:

South Carolina:

Colleton

Georgetown

Horry

Williamsburg

Columbia

Survey Area

South Carolina:

Darlington

Florence

Kershaw

Lee

Lexington

Richland

Sumter

Area of Application. Survey area plus:

South Carolina:

Abbeville

Anderson

Calhoun

Cherokee

Clarendon

Fairfield

Greenville

Greenwood

Laurens

Newberry

Oconee

Orangeburg

Pickens

Saluda

Spartanburg

Union

SOUTH DAKOTA

Eastern South Dakota

Survey Area

South Dakota:

Minnehaha

Area of Application. Survey area plus:

Iowa:

Dickinson

Emmet

Lyon

Osceola

Minnesota:

Jackson

Lincoln

Lyon

Murray

Nobles

Pipestone

Rock

South Dakota:

Aurora

Beadle

Bennett

Bon Homme

Brookings

Brown

Brule

Buffalo

Campbell

Charles Mix

Clark

Clay

Codington

Corson

Davison

Day

Deuel

Dewey

Douglas

Edmunds

Faulk

Grant

Gregory

Haakon

Hamlin

Hand

Hanson

Hughes

Hutchinson

Hyde

Jerauld

Jones

Kingsbury

Lake

Lincoln

Lyman

McCook

McPherson

Marshall

Mellette

Miner

Moody

Potter

Roberts

Sanborn

Spink

Stanley

Sully

Todd

Tripp

Turner

Walworth

Yankton

Ziebach

TENNESSEE

Eastern Tennessee

Survey Area

Tennessee:

Carter

Hawkins

Sullivan

Unicoi

Washington

Virginia (city):

Bristol

Virginia (counties):

Scott

Washington

Area of Application. Survey area plus:

Kentucky:

Harlan

Letcher

North Carolina:

Alleghany

Ashe

Watauga

Tennessee:

Cocke

Greene

Hancock

Johnson

Virginia:

Buchanan

Grayson

Lee

Russell

Smyth

Tazewell

Memphis

Survey Area

Arkansas:

Crittenden

Mississippi

Mississippi:

De Soto

Tennessee:

Shelby

Tipton

Area of Application. Survey area plus:

Arkansas:

Craighead

Cross

Lee

Poinsett

St. Francis

Mississippi:

Benton

Lafayette (Only includes the Holly Springs National Forest portion)

Marshall

Panola

Pontotoc (Only includes the Holly Springs National Forest portion)

Tate

Tippah

Tunica

Union (Only includes the Holly Springs National Forest portion)

Missouri:

Dunklin

Pemiscot

Tennessee:

Carroll

Chester

Crockett

Dyer

Fayette

Gibson

Hardeman

Hardin

Haywood

Lake

Lauderdale

Madison

McNairy

Obion

Nashville

Survey Area

Kentucky:

Christian

Tennessee:

Cheatham

Davidson

Dickson

Montgomery

Robertson

Rutherford

Sumner

Williamson

Wilson

Area of Application. Survey area plus:

Alabama:

Jackson

Georgia:

Catossa

Chattooga

Dade

Murray

Walker

Whitfield

Illinois:

Massac

Kentucky:

Adair

Allen

Ballard

Barren

Butler

Caldwell

Calloway

Carlisle

Clinton

Cumberland

Edmonson

Fulton

Graves

Hickman

Hopkins

Livingston

Logan

Lyon

McCracken

Marshall

Metcalfe

Monroe

Muhlenberg

Russell

Simpson

Todd

Trigg

Warren

Tennessee:

Anderson

Bedford

Benton

Bledsoe

Blount

Bradley

Campbell

Cannon

Claiborne

Clay

Coffee

Cumberland

Decatur

DeKalb

Fentress

Franklin

Grainger

Grundy

Hamblen

Hamilton

Henderson

Henry

Hickman

Houston

Humphreys

Jackson

Jefferson

Knox

Lawrence

Lewis

Loudon

McMinn

Macon

Marion

Marshall

Maury

Meigs

Monroe

Moore

Morgan

Overton

Perry

Pickett

Polk

Putnam

Rhea

Roane

Scott

Sequatchie

Sevier

Smith

Stewart

Trousdale

Union

Van Buren

Warren

Weakley

White

TEXAS

Austin

Survey Area

Texas:

Hays

Milam

Travis

Williamson

Area of Application. Survey area plus:

Texas:

Bastrop

Blanco

Burnet

Caldwell

Fayette

Lee

Llano

Mason

San Saba

Corpus Christi-Kingsville-Alice

Survey Area

Texas:

Hidalgo (effective for wage surveys beginning in June 2026)

Nueces

San Patricio

Area of Application. Survey area plus:

Texas:

Aransas

Bee

Brooks

Calhoun

Cameron

Duval

Goliad

Hidalgo (effective until June 2026)

Jim Wells

Kenedy

Kleberg

Live Oak

Refugio

Starr

Victoria

Willacy

Dallas-Fort Worth

Survey Area

Texas:

Collin

Dallas

Denton

Ellis

Grayson

Hood

Johnson

Kaufman

Parker

Rockwall

Tarrant

Wise

Area of Application. Survey area plus:

Oklahoma:

Bryan

Carter

Love

Texas:

Cherokee

Cooke

Delta

Erath

Fannin

Henderson

Hill

Hopkins

Hunt

Jack

Lamar

Montague

Navarro

Palo Pinto

Rains

Smith

Somervell

Van Zandt

Wood

El Paso

Survey Area

New Mexico:

Dona Ana

Otero

Texas:

El Paso

Area of Application. Survey area plus:

New Mexico:

Chaves

Eddy

Grant

Hidalgo

Lincoln (Only includes the White Sands Missile Range portion)

Luna

Sierra

Socorro (Only includes the White Sands Missile Range portion)

Texas:

Culberson

Hudspeth

Houston-Galveston-Texas City

Survey Area

Texas:

Brazoria

Fort Bend

Galveston

Harris

Liberty

Montgomery

Waller

Area of Application. Survey area plus:

Texas:

Angelina

Austin

Chambers

Colorado

Grimes

Hardin

Houston

Jackson

Jasper

Jefferson

Lavaca

Madison

Matagorda

Nacogdoches

Newton

Orange

Polk

Sabine

San Augustine

San Jacinto

Shelby

Trinity

Tyler

Walker

Washington

Wharton

San Antonio

Survey Area

Texas:

Bexar

Comal

Guadalupe

Area of Application. Survey area plus:

Texas:

Atascosa

Bandera

DeWitt

Dimmit

Edwards

Frio

Gillespie

Gonzales

Jim Hogg

Karnes

Kendall

Kerr

Kinney

La Salle

McMullen

Maverick

Medina

Real

Uvalde

Val Verde

Webb

Wilson

Zapata

Zavala

Texarkana

Survey Area

Arkansas:

Little River

Miller

Texas:

Bowie

Area of Application. Survey area plus:

Arkansas:

Columbia

Hempstead

Howard

Lafayette

Nevada

Sevier

Texas:

Camp

Cass

Franklin

Marion

Morris

Red River

Titus

Waco

Survey Area

Texas:

Bell

Coryell

McLennan

Area of Application. Survey area plus:

Texas:

Anderson

Bosque

Brazos

Burleson

Falls

Freestone

Hamilton

Lampasas

Leon

Limestone

Mills

Robertson

Western Texas

Survey Area

Texas:

Callahan

Ector

Howard

Jones

Lubbock

Midland

Nolan

Taylor

Tom Green

Area of Application. Survey area plus:

New Mexico:

Lea

Oklahoma:

Beaver

Cimarron

Texas

Texas:

Andrews

Armstrong

Bailey

Borden

Brewster

Briscoe

Brown

Carson

Castro

Childress

Cochran

Coke

Coleman

Collingsworth

Comanche

Concho

Cottle

Crane

Crockett

Crosby

Dallam

Dawson

Deaf Smith

Dickens

Donley

Eastland

Fisher

Floyd

Gaines

Garza

Glasscock

Gray

Hale

Hall

Hansford

Hartley

Haskell

Hemphill

Hockley

Hutchinson

Irion

Jeff Davis

Kent

Kimble

King

Lamb

Lipscomb

Loving

Lynn

McCulloch

Martin

Menard

Mitchell

Moore

Motley

Ochiltree

Oldham

Parmer

Pecos

Potter

Presidio

Randall

Reagan

Reeves

Roberts

Runnels

Schleicher

Scurry

Shackelford

Sherman

Stephens

Sterling

Stonewall

Sutton

Swisher

Terrell

Terry

Throckmorton

Upton

Ward

Wheeler

Winkler

Yoakum

Wichita Falls, Texas-Southwestern Oklahoma

Survey Area

Oklahoma:

Comanche

Cotton

Stephens

Tillman

Texas:

Archer

Clay

Wichita

Area of Application. Survey area plus:

Oklahoma:

Greer

Harmon

Jackson

Jefferson

Kiowa

Texas:

Baylor

Foard

Hardeman

Knox

Wilbarger

Young

UTAH

Utah

Survey Area

Utah:

Box Elder

Davis

Salt Lake

Tooele

Utah

Weber

Area of Application. Survey area plus:

Colorado:

Mesa

Moffat

Idaho:

Franklin

Utah:

Beaver

Cache

Carbon

Daggett

Duchesne

Emery

Garfield (Does not include the Bryce Canyon, Capitol Reef, and Canyonlands National Parks portions)

Grand (Does not include the Arches and Canyonlands National Parks portions)

Iron (Does not include the Cedar Breaks National Monument and Zion National Park portions)

Juab

Millard

Morgan

Piute

Rich

Sanpete

Sevier

Summit

Uintah

Wasatch

Wayne (Does not include the Capitol Reef and Canyonlands National Parks portions)

VIRGINIA

Richmond

Survey Area

Virginia (cities):

Colonial Heights

Hopewell

Petersburg

Richmond

Virginia (counties):

Charles City

Chesterfield

Dinwiddie

Goochland

Hanover

Henrico

New Kent

Powhatan

Prince George

Area of Application. Survey area plus:

Virginia (cities):

Charlottesville

Emporia

Virginia (counties):

Albemarle (Does not include the Shenandoah National Park portion)

Amelia

Brunswick

Buckingham

Charlotte

Cumberland

Essex

Fluvanna

Greene (Does not include the Shenandoah National Park portion)

Greensville

King and Queen

King William

Lancaster

Louisa

Lunenburg

Mecklenburg

Nelson

Northumberland

Nottoway

Prince Edward

Richmond

Sussex

Roanoke

Survey Area

Virginia (cities):

Radford

Roanoke

Salem

Virginia (counties):

Botetourt

Craig

Montgomery

Roanoke

Area of Application. Survey area plus:

Virginia (cities):

Buena Vista

Covington

Danville

Galax

Lexington

Lynchburg

Martinsville

Staunton

Waynesboro

Virginia (counties):

Alleghany

Amherst

Appomattox

Augusta (Does not include the Shenandoah National Park portion)

Bath

Bedford

Bland

Campbell

Carroll

Floyd

Franklin

Giles

Halifax

Henry

Highland

Patrick

Pittsylvania

Pulaski

Rockbridge

Wythe

Virginia Beach-Chesapeake

Survey Area

North Carolina:

Currituck

Pasquotank (effective for wage surveys beginning in May 2026)

Virginia (cities):

Chesapeake

Hampton

Newport News

Norfolk

Poquoson

Portsmouth

Suffolk

Virginia Beach

Williamsburg

Virginia (counties):

Gloucester

James City

York

Area of Application. Survey area plus:

Maryland:

Worcester (Only includes the Assateague Island portion)

North Carolina:

Camden

Chowan

Dare

Gates

Hertford

Pasquotank (effective until May 2026)

Perquimans

Tyrrell

Virginia (city):

Franklin

Virginia (counties):

Accomack

Isle of Wight

Mathews

Middlesex

Northampton

Southampton

Surry

WASHINGTON

Seattle-Tacoma

Survey Area

Washington:

Island (effective for wage surveys beginning in September 2026)

King

Kitsap

Pierce

Snohomish

Area of Application. Survey area plus:

Washington:

Chelan (Only includes the North Cascades National Park section)

Clallam

Grays Harbor

Island (effective until September 2026)

Jefferson

Lewis

Mason

Pacific

San Juan

Skagit

Thurston

Whatcom

Southeastern Washington-Eastern Oregon

Survey Area

Oregon:

Umatilla

Washington:

Benton

Franklin

Walla Walla

Yakima

Area of Application. Survey area plus:

Oregon:

Baker

Grant

Harney

Malheur

Morrow

Union

Wallowa

Wheeler

Washington:

Columbia

Kittitas (Only includes the Yakima Firing Range portion)

Spokane

Survey Area

Washington:

Spokane

Area of Application. Survey area plus:

Idaho:

Benewah

Bonner

Boundary

Clearwater

Idaho

Kootenai

Latah

Lewis

Nez Perce

Shoshone

Washington:

Adams

Asotin

Chelan (Does not include the North Cascades National Park portion)

Douglas

Ferry

Garfield

Grant

Kittitas (Does not include the Yakima Firing Range portion)

Lincoln

Okanogan

Pend Oreille

Stevens

Whitman

WEST VIRGINIA

West Virginia

Survey Area

Kentucky:

Boyd

Greenup

Ohio:

Lawrence

West Virginia:

Cabell

Harrison

Kanawha

Marion

Monongalia

Putnam

Wayne

Area of Application. Survey area plus:

Kentucky:

Carter

Elliott

Floyd

Johnson

Lawrence

Magoffin

Martin

Pike

Ohio:

Gallia

Jackson

Meigs

Monroe

Scioto

Washington

Virginia (city):

Norton

Virginia (counties):

Dickenson

Wise

West Virginia:

Barbour

Boone

Braxton

Calhoun

Clay

Doddridge

Fayette

Gilmer

Grant

Greenbrier

Jackson

Lewis

Lincoln

Logan

McDowell

Mason

Mercer

Mingo

Monroe

Nicholas

Pendleton

Pleasants

Pocahontas

Preston

Raleigh

Randolph

Ritchie

Roane

Summers

Taylor

Tucker

Tyler

Upshur

Webster

Wetzel

Wirt

Wood

Wyoming

WISCONSIN

Madison

Survey Area

Wisconsin:

Dane

Area of Application. Survey area plus:

Wisconsin:

Adams

Columbia

Grant

Green

Green Lake

Iowa

Lafayette

Marquette

Rock

Sauk

Waushara

Milwaukee-Racine-Waukesha

Survey Area

Wisconsin:

Milwaukee

Ozaukee

Washington

Waukesha

Area of Application. Survey area plus:

Wisconsin:

Brown

Calumet

Dodge

Door

Fond du Lac

Jefferson

Kewaunee

Manitowoc

Menominee

Oconto

Outagamie

Racine

Shawano

Sheboygan

Walworth

Winnebago

Southwestern Wisconsin

Survey Area

Wisconsin:

Chippewa

Eau Claire

La Crosse

Monroe

Trempealeau

Area of Application. Survey area plus:

Minnesota:

Houston

Wisconsin:

Barron

Buffalo

Clark

Crawford

Dunn

Forest

Jackson

Juneau

Langlade

Lincoln

Marathon

Oneida

Pepin

Portage

Price

Richland

Rusk

Taylor

Vernon

Vilas

Waupaca

Wood

WYOMING

Wyoming

Survey Area

South Dakota:

Pennington

Wyoming:

Albany

Laramie

Natrona

Area of Application. Survey area plus:

Nebraska:

Banner

Box Butte

Cheyenne

Dawes

Deuel

Garden

Kimball

Morrill

Scotts Bluff

Sheridan

Sioux

South Dakota:

Butte

Custer

Fall River

Harding

Jackson

Lawrence

Meade

Oglala Lakota

Perkins

Wyoming:

Campbell

Carbon

Converse

Crook

Fremont

Goshen

Hot Springs

Johnson

Lincoln

Niobrara

Platte

Sheridan

Sublette

Sweetwater

Uinta

Washakie

Weston

[FR Doc. 2025-00555 Filed 1-13-25; 8:45 am]

BILLING CODE 6325-39-P